DEPARTMENT OF HOUSING AND URBAN DEVELOPMENT

[Docket No. FR-6247-N-01]

Announcement of Funding Awards

AGENCY: Office of Chief Financial Officer, HUD.

ACTION: Notice.

SUMMARY: In accordance with the Department of Housing and Urban Development Reform Act of 1989, this announcement notifies the public of funding decisions made by the Department in competitions for funding under the Notice of Funding Opportunity (NOFO) for the following programs: FY2018 and FY2019 HUD Community Compass Technical Assistance and Capacity Building Program, FY2020 HOPWA Permanent Supportive Housing, FY2019 Family-Self Sufficiency-Renewal (FSS), FY2019 Resident Opportunity & Self Sufficiency Service Coordinator (ROSS-SC) Grant Program, FY2019 Jobs Plus Initiative, FY2019 and FY2020 Community Development Block Grant Program for Indian Tribes and Alaska Native Villages (ICDBG), FY2019 Choice Neighborhoods Implementation Grants, FY2019/2020 Housing Counseling Training Grant, FY2020 Supplemental Comprehensive Housing Counseling Grant Program, FY2020 Lead Hazard Reduction Grant Program, FY2020 Lead and Healthy Homes Technical Studies Grants Program Pre and Full Application, FY2020 Healthy Homes Production Grant Program for Tribal Housing, FY2019/2020 Cooperative Research in Housing Technologies FY2019/2020 Examining Long Term Outcomes Following Exit from HUD-Assisted Housing, FY2019/2020 Estimating the Prevalence and Probability of Homeless Youth, and FY2019/2020 Impact of Rental Assistance Demonstration (RAD) on Children in HUD Assisted Households.

FOR FURTHER INFORMATION CONTACT: Office of the Chief Financial Officer (Systems), Grants Management and Oversight at AskGMO@hud.gov or the contact person listed in each appendix.

SUPPLEMENTARY INFORMATION:

HUD posted its FY 2018 and FY 2019 HUD Community Compass Technical Assistance and Capacity Building Program on grants.gov on December 17, 2018, (FR-6200-N-06). The competition closed on March 14, 2019. HUD rated and selected for funding based on selection criteria contained in the NOFO. The initial funding awards, including supplemental awards funded by the Coronavirus Aid, Relief, and Economic Security (CARES) Act, were published with the September 1, 2020 Federal Register Notice.

Additional funds recently became available through recaptures and appropriated funds uncommitted. The funds were competitively awarded as amendments to awards for five applicants from the FY2018 and FY2019 HUD Community Compass Technical Assistance and Capacity Building Program NOFO competition. The award amendments provide technical assistance and capacity building services to CARES Act grantees associated with the Emergency Solutions Grant (ESG) Program, and grantees and other customers of HUD's Offices of Community Planning and Development (CPD), Public and Indian Housing (PIH), and EnVision Centers.

HUD posted its FY2020 HOPWA Permanent Supportive Housing Program on grants.gov on February 28, 2019, (CPD-20-02). The competition closed on April 3, 2020. HUD rated and selected for funding based on selection criteria contained in the NOFO. This competition awarded $35,815,555 to 31 recipients. Pursuant to the authority provided by the Consolidated Appropriations Act, 2019, Public Law 116-6, Div. G, Title II, the Department will renew all eligible expiring HOPWA permanent supportive housing (PSH) competitive grants initially funded with appropriated funds from Fiscal Year 2010 or earlier provided they meet applicable program requirements.

HUD posted its FY2019 Family Self-Sufficiency-Renewal (FSS) Program on grants.gov on September 26, 2019, (FR-6300-N-04). The competition closed on October 28, 2019. HUD rated and selected for funding based on selection criteria contained in the NOFO. This competition awarded $79,549,539 to 673 recipients to support the Department's strategic goal of increasing economic opportunity for HUD-assisted families. FSS provides grants to Public Housing Authorities (PHAs) to support the salaries and training needs of FSS Program Coordinators who assist participating families receiving housing assistance through the Housing Choice Voucher (HCV/PBV) and Public Housing (PH) programs. FSS Program Coordinators develop local strategies to connect participating families to public and private resources to increase their earned income and financial empowerment, reduce or eliminate the need for welfare assistance, and make progress toward economic independence and self-sufficiency. PHAs and each individual participating family execute a five-year contract that incorporates the responsibilities of each party, as well as a training and services plan to help the family become more self-sufficient.

HUD posted its FY2019 Resident Opportunity & Self Sufficiency Service Coordinator (ROSS-SC) Grant Program on grants.gov on August 4, 2019, (FR-6300-N-05). The competition closed on October 15, 2019. HUD rated and selected for funding based on selection criteria contained in the NOFA. This competition awarded $36,843,021 to 137 recipients to assist residents of Public and Indian Housing make progress towards economic self-sufficiency. HUD provides ROSS-SC grant funding to Public Housing Authorities, tribes, resident associations, and eligible nonprofits to hire a Service Coordinator who assesses the needs of Public and Indian housing residents and links them to supportive services that enable participants to move along a continuum towards economic independence and stability.

HUD posted its FY2019 Jobs Plus Initiative Program on grants.gov on July 30, 2019, (FR-6300-N-14). The competition closed on October 1, 2019. HUD rated and selected for funding based on selection criteria contained in the NOFO. This competition awarded $20,744,952 to 9 recipients to develop locally based, job-driven approaches that increase earnings and advance employment outcomes through work readiness, employer linkages, job placement, educational advancement, technology skills, and financial literacy for residents of public housing. The place-based Jobs Plus program addresses poverty among public housing residents by incentivizing and enabling employment through earned income disregards for working residents and a set of services designed to support work including employer linkages, job placement and counseling, educational advancement, and financial counseling.

HUD posted its FY2019 and FY2020 Community Development Block Grant Program for Indian Tribes and Alaska Native Villages (ICDBG) Program on grants.gov on November 19, 2019, (FR-6300-N-23). The competition closed on February 3, 2020. HUD rated and selected for funding based on selection criteria contained in the NOFO. This competition awarded $119,849,893 to 103 recipients to develop viable Indian and Alaska Native communities, including the creation of decent housing, suitable living environments, and economic opportunities primarily for persons with low- and moderate-incomes.

HUD posted its FY2019 Choice Neighborhood Implementation Grants Program on grants.gov on August 5, 2019, (FR-6300-N-34). The competition closed on November 4, 2019. HUD rated and selected for funding based on selection criteria contained in the NOFO. This competition awarded $130,000,000 to 4 recipients to support locally driven strategies that address struggling neighborhoods with distressed public or HUD-assisted housing through a comprehensive approach to neighborhood transformation. Local leaders, residents, and stakeholders, such as public housing authorities, cities, schools, police, business owners, nonprofits, and private developers, come together to create and implement a plan that revitalizes distressed HUD housing and addresses the challenges in the surrounding neighborhood. The program helps communities transform neighborhoods by revitalizing severely distressed public and/or assisted housing and catalyzing critical improvements in the neighborhood, including vacant property, housing, businesses, services, and schools. HUD posted its FY2019 and FY2020 Housing Counseling Training Grant Program on grants.gov on August 6, 2019, (FR-6300-N-30). The competition closed on September 5, 2019. HUD rated and selected for funding based on selection criteria contained in the NOFO. This competition awarded $3,000,000 to 5 recipients to housing counseling agencies to better assist individuals and families. This NOFO was a two-year funding grant to support basic housing counseling training and specialized topics to housing counseling agencies to better assist individuals and families. In addition, the grant supports training the agencies on state and local issues and to support the emerging administrative priorities such as HECM default counseling and disaster preparation/recovery classes, both on-line and onsite courses.

HUD posted its FY 2020 Supplemental Comprehensive Housing Counseling Grant Program on grants.gov on May 27, 2019, (FR-6400-N-33). The competition closed on July 8, 2020. HUD rated and selected for funding based on selection criteria contained in the NOFO. HUD awarded 21 new grantees under the Supplemental Comprehensive Housing Counseling NOFO. FY2020 funding was also provided to grantees under HUD's two-year FY 2019 NOFO for the Comprehensive Housing Counseling (CHC) Grant Program. In total, $49,090,442 was awarded to 224 recipients: HUD-approved local housing counseling agencies, national and regional organizations, and state housing finance agencies (SHFAs) who competed under HUD's FY 2020 Supplemental Comprehensive Housing Counseling Grant NOFO or HUD's FY 2019/2020 Comprehensive Housing Counseling NOFO. These grants will support quality housing counseling services to help individuals and families to avoid eviction or foreclosure or to make more informed homebuying and rental choices.

HUD posted FY2020 Lead Hazard Reduction Grant Program on grants.gov on July 22, 2020, (FR-6400-N-13). The competition closed on August 24, 2020. HUD rated and selected for funding based on selection criteria contained in the NOFO. This competition awarded $164,155,145.90 to 44 recipients to maximize the number of children under the age of six protected from lead poisoning by assisting states, cities, counties/parishes, Native American Tribes or other units of local government in undertaking comprehensive programs to identify and control lead-based paint hazards in eligible privately-owned rental or owner-occupied housing populations.

HUD posted FY2020 Lead Technical Studies Grant Program on grants.gov on May 01, 2020, (FR-6400-N-15). The competition closed on June 15, 2020 (Pre-Application) and August 13, 2020 (Full Application). HUD rated and selected for funding based on selection criteria contained in the NOFO. This competition awarded $3,780,022 to 6 recipients to gain knowledge to improve the efficacy and cost-effectiveness of methods for evaluation and control of residential lead-based paint hazards.

HUD posted its FY2020 Healthy Homes Production Technical Studies Grant Program on grants.gov May 01, 2020, (FR-6400-N-15). The competition closed on June 15, 2020 (Pre-Application) and August 13, 2020 (Full Application). HUD rated and selected for funding based on selection criteria contained in the NOFO. This competition awarded $5,591,849 to 7 recipients to advance the recognition and control of priority residential health and safety hazards and more closely examine the link between housing and health.

HUD posted its FY2020 Healthy Homes Production Grant Program for Tribal Housing Program on grants.gov on July 23, 2020, (FR-6400-N-44). The competition closed on August 24, 2020. HUD rated and selected for funding based on selection criteria contained in the NOFO. This competition awarded $9,939,998 to 12 recipients to addressing multiple childhood diseases and injuries in the home by focusing on housing-related hazards in a coordinated fashion, rather than addressing a single hazard at a time in Tribal housing.

HUD posted its FY2019 and FY2020 Cooperative Research in Housing Technologies Program on grants.gov on May 15, 2020, (FR-6400-N-56). The competition closed on June 29, 2020. HUD rated and selected for funding based on selection criteria contained in the NOFO. This competition awarded $2,000,000 to 6 recipients to develop and deploy knowledge that provides the homebuilding industry with new, innovative construction products or practices that may lead to more affordable, energy efficient, resilient (i.e., durable, disaster resistant, adaptable for future requirements, and maintainable), and healthier housing while at the same time reducing the cost of construction. Specifically, applications are encouraged to focus on aspects of residential construction related to factory-built housing and components and/or resilience.

HUD posted its FY2019 and FY2020 Examining Long Term Outcomes Following Exit from HUD-Assisted Housing Program on grants.gov on May 29, 2020, (FR-6400-N-58). The competition closed on July 14, 2020. HUD rated and selected for funding based on selection criteria contained in the NOFO. This competition awarded $318,413 to 2 recipients to examine long-term outcomes of households who have exited HUD-assisted housing (all programs), also referred to as “leavers.” HUD's purpose is to learn how housing assistance can better support good outcomes, such as economic opportunity and self-sufficiency of assisted households, enabling households to exit HUD assistance and thus increase the availability of scarce housing resources for other families in need. HUD is soliciting proposals to explore this topic by taking advantage of HUD administrative or tenant data linked with other longitudinal data sources on households or individuals.

HUD posted its FY2019 and FY2020 Estimating the Prevalence and Probability of Homeless Youth Program on grants.gov on May 15, 2020, (FR-6400-N-59). The competition closed on July 1, 2020. HUD rated and selected for funding based on selection criteria contained in the NOFO. This competition awarded $2,000,000 to 3 recipients to meet the requirements for youth research activities authorized under Section 345 of the Runaway and Homeless Youth Act, which calls for “using the best quantitative and qualitative social science research methods available to produce estimates of the incidence and prevalence of runaway and homeless individuals who are not less than 13 years of age but are less than 26 years of age and that includes with such estimate an assessment of the characteristics of such individuals.”

HUD posted its FY2019 and FY2020 Impact of Rental Assistance Demonstration (RAD) on Children in HUD Assisted Households Program competition on grants.gov on May 26, 2020, (FR-6400-N-66). The competition closed on July 30, 2020. HUD rated and selected for funding based on selection criteria contained in the NOFO. This competition awarded $750,000 to 2 recipients to support research project(s) that will advance scientific knowledge and produce policy-relevant evidence on the implementation of the RAD program and its effect on children's well-being.

In accordance with section 102(a)(4)(C) of the Department of Housing and Urban Development Reform Act of 1989 (103 Stat. 1987, 42 U.S.C. 3545(a)(4)(C)), the Department is publishing the awardees and the amounts of the awards in Appendices A-Q of this document.

Director, Grants Management and Oversight for the Office of the Chief Financial Officer, Dorthera Yorkshire, having reviewed and approved this document, is delegating the authority to electronically sign this document to submitter, Aaron Santa Anna, who is the Federal Register Liaison for HUD, for purposes of publication in the Federal Register.

Aaron Santa Anna,
Federal Register Liaison for the Department of Housing and Urban Development.

Appendix A

FY2018 and FY2019 HUD Community Compass Technical Assistance and Capacity Building Program (FR-6200-FA-06)

Contact: Stephanie V. Stone (202) 402-7418.

Legal name | Address line 1 | City | Zip | FY2018 total award | 2019 total award | Total supplemental (CARES Act) awards | Total awards
HomeBase/The Center for Common Concerns | 870 Market Street | San Francisco | 94102 |  | $500,000.00 | $1,500,000.00 | $2,000,000.00
Econometrica, INC | 7475 Wisconsin Avenue | Bethesda | 20814 |  | 305,459.00 |  | 305,459.00
University of Chicago (formerly John Marshall Law School) | 315 South Plymouth Court | Chicago | 60604 | ($708,822.74) | (750,000.00) |  | (1,458,822.74)
Technical Assistance Collaborative, Inc | 31 Saint James Avenue | Boston | 02116 |  |  | 1,000,000.00 | 1,000,000.00
Cloudburst Consulting Group, Inc | 8400 Corporate Drive, Suite 550 | Landover | 20785 | 708,822.74 | 750,000.00 |  | 1,458,822.74
Total |  |  |  |  | 805,459.00 | 2,500,000.00 | 3,305,459.00

Appendix B

FY 2020 HOPWA Permanent Supportive Housing (CPD-20-02)

Contact: Vanessa Larkin (202) 402-2633.

Grantee name | Address | City | State | Zip | Amount
Action, Inc | 180 Main Street | Gloucester | MA | 01930-6002 | $1,244,213.00
AIDS Alabama, Inc | 3529 7th Avenue South | Birmingham | AL | 35222-3210 | 938,072.00
AIDS Foundation of Chicago | 200 W Monroe Street, Suite 1150 | Chicago | IL | 60606-5036 | 1,425,065.00
AIDS Foundation of Chicago | 200 W Monroe Street, Suite 1150 | Chicago | IL | 60606-5306 | 1,370,429.00
AIDS Interfaith Residential Services, Inc | 1800 N Charles Street, Suite 700 | Baltimore | MD | 21201-5920 | 1,284,588.00
AIDS Resource Center of Wisconsin | 820 N Plankinton Ave | Milwaukee | WI | 53203-1802 | 1,340,206.00
Alaska Housing Finance Corporation | P.O. Box 101020, 4300 Boniface Parkway | Anchorage | AK | 99510-1020 | 892,646.00
Asociacion de Puertorriquenos en Marcha, Inc | 1900 N 9th St., Ste 101 | Philadelphia | PA | 19122-2028 | 1,292,763.00
City of Baltimore—Mayor's Office of Homeless Services | 7 E Redwood Street, 5th Floor | Baltimore | MD | 21202-1108 | 1,331,033.00
City of Nashua | 229 Main Street | Nashua | NH | 03060 | 1,439,929.00
Clare Housing | 929 Central Avenue NE | Minneapolis | MN | 55413-2404 | 421,113.00
Cochise County | 1415 Melody Lane | Bisbee | AZ | 85603-3037 | 616,323.00
Downtown Emergency Service Center | 515 3rd Ave | Seattle | IL | 98104-2304 | 579,260.00
Grace House, Inc | 2219 N Lamar Street | Jackson | MS | 39202-1404 | 1,209,843.00
Greyston Health Services, Inc | 21 Park Avenue | Yonkers | NY | 10703-3401 | 1,348,063.00
Harbor Homes, Inc | 77 Northeastern Blvd | Nashua | NH | 03062-3128 | 494,450.00
Health Services Center, Inc | 608 Martin Luther King Dr | Hobson City | AL | 36201 | 886,563.00
Idaho Housing and Finance Association | 565 W Myrtle St | Boise | ID | 83702-7675 | 1,333,793.00
Kingsport Housing & Redevelopment Authority | 906 E Sevier Ave | Kingsport | TN | 37660-0044 | 1,076,041.00
Lexington-Fayette Urban County Government | 200 East Main Street | Lexington | KY | 40507-1310 | 1,441,081.00
Los Angeles Housing and Community Investment Department | 1200 West 7th Street | Los Angeles | CA | 90017-2349 | 1,445,197.00
Maui AIDS Foundation | 1935 Main Street, Suite 101 | Wailuku | HI | 96793-1784 | 1,444,074.00
Oregon Health Authority | 800 NE Oregon St., Suite 1105 | Portland | OR | 97232-2187 | 1,379,538.00
Pima County | 2797 E Ajo Way | Tuscon | AZ | 85713-6223 | 1,355,770.00
Santa Fe Community Housing Trust | 1111 Agua Fria St., P.O. Box 713 | Santa Fe | NM | 87501-2467 | 1,276,263.00
State of Montana | 1400 Carter Dr | Helena | MT | 59601-6400 | 1,441,081.00
Tarrant County Community Development Division | 1509 B S University Dr., Suite 276 | Fort Worth | TX | 76107-9571 | 927,766.00
The Board of Trustees of the University of Illinois | 809 S Marshfield Ave, MB 502, M/C 551 | Chicago | IL | 60612-4305 | 1,252,970.00
The Methodist Training & Outreach Center, Inc | 4A Kronprindsens Gade, P.O. Box 306816 | St. Thomas | VI | 00803-6816 | 1,436,907.00
The Salvation Army | 2445 Prior Avenue | Roseville | MN | 55113-2714 | 459,768.00
Vermont Housing and Conservation Board | 58 East State Street | Montpelier | VT | 05602-3044 | 1,430,747.00
Total |  |  |  |  | 35,815,555.00

Appendix C

FY2019 Family Self-Sufficiency-Renewal (FR-6300-FA-04)

Contact: Jogchum Poodt (202) 402-2953.

Legal name | Address | City | State | Zip code | Total recommended amount
Albertville Housing Authority | 711 South Broad Street P.O. Box 1126 | Albertville | AL | 35950-19 | $22,000.00
Mobile Housing Board | 151 S Claiborne Street Resident Services | Mobile | AL | 36602-2333 | 222,035.00
Auburn Housing Authority | 931 Booker Street | Auburn | AL | 36832-2902 | 60,848.00
Tuscaloosa Housing Authority | 2117 Jack Warner Parkway Suite 2 | Tuscaloosa | AL | 35401-1092 | 135,377.00
The Housing Authority of the City of Montgomery, AL | 525 South Lawrence St. FSS | Montgomery | AL | 36104-4611 | 109,800.00
Bessemer Housing Authority | 1515 Fairfax Avenue | Bessemer | AL | 35021 | 61,844.00
Jefferson County Housing Authourity | 3700 Industrial Parkway | Birmingham | AL | 35217-5316 | 139,725.00
Alexander City Housing Authority | 2110 County Rd | Alexander City | AL | 35010-3800 | 48,818.00
Sheffield Housing Authority | 505 N Columbia Ave. Family Self-Sufficiency Prog | Sheffield | AL | 35660-429 | 51,602.00
Huntsville Housing Authority | 200 Washington Street | Huntsville | AL | 35801-4843 | 269,067.00
Housing Authority of Birmingham District | 1826—3rd Avenue South | Birmingham | AL | 35255 | 143,982.00
Prichard Housing Authority | P.O. Box 10307 | Prichard | AL | 36610 | 96,071.00
Alaska Housing Finance Corporation | P.O. Box 101020 Public Housing Division | Anchorage | AK | 99510-1020 | 288,000.00
City of Mesa | 20 E Main Street, Suite 250 P.O. Box 1466 | Mesa | AZ | 85211-1466 | 75,994.00
County of Mohave | P.O. Box 7000 Mohave Co. Housing Authority | Kingman | AZ | 86402-7000 | 58,349.00
Housing Authority of the City of Yuma | 420 South Madison Avenue | YUMA | AZ | 85364-2320 | 344,456.00
Yuma County Housing Department | 2050 W Main Street Housing | Somerton | AZ | 85350-2534 | 203,362.00
City of Tempe Housing Services | 3500 S Rural Rd. Suite 202 Housing Services Division | Tempe | AZ | 85282-5404 | 68,000.00
Housing Authority of Cochise County | 1415 Melody Ln, Bldg A | Bisbee | AZ | 85603 | 58,420.00
City of Chandler | Mail Stop 101, P.O. Box 4008 Housing Division | Chandler | AZ | 85244-4008 | 138,336.00
Douglas City of Public Housing | 425 E 10th Street | Douglas | AZ | 85607-2008 | 72,000.00
City of Scottsdale Housing Agency | Paiute Neighborhood Center 6535 E Osborn Rd. Building 8 | Scottsdale | AZ | 85251-6029 | 67,500.00
City of Phoenix Housing Department | 251 W Washington, 4th Floor Property Management/HSS | Phoenix | AZ | 85003-2245 | 216,000.00
Housing Authority of Maricopa County | 8910 N 78TH Avenue | Peoria | AZ | 85345-7900 | 72,000.00
City of Tucson | 310 N Commerce Park Loop P.O. Box 27210 | Tucson | AZ | 85726-7210 | 138,572.00
Housing Authority of the City of West Memphis | 390 South Walker Avenue | West Memphis | AK | 72301-6013 | 53,186.00
Housing Authority of Lonoke County | P.O. Box 74 | Carlisle | AK | 72024-74 | 21,466.00
Lee County Housing Authority | 199 Highway 243 N | Marianna | AK | 72360-2854 | 30,000.00
Jonesboro Urban Renewal and Housing Authority | 330 Union | Jonesboro | AK | 72401-2815 | 44,500.00
Pine Bluff Housing Authority | 2503 Belle Meade Drive P.O. Box 8872 | Pine Bluff | AK | 71611-8872 | 70,394.00
McGehee Public Residential Housing Facilities board | P.O. Box 725 Family Self-Sufficiency Program | McGehee | AK | 71654-725 | 39,961.00
White River Regional Housing Authority | P.O. Box 650 | Melbourne | AK | 72556-650 | 43,461.00
Fort Smith Housing Authority | 2100 North 31st Street Family Self Sufficiency | Fort Smith | AK | 72904-6140 | 59,028.00
Northwest Regional Housing Authority | P.O. Box 2568 | Harrison | AK | 72602-2568 | 37,336.00
Housing Authority of the City of Hot Springs | 1004 Illinois Street | Hot Springs | AK | 71901-4315 | 54,841.00
Wynne Housing Authority | 200 Fisher Place HCV FSS | WYNNE | AK | 72396-552 | 38,000.00
Pope County Public Facilities Board/Universal Housing | P.O. Box 846/301 E 3rd Street | Russellville | AK | 72801-5109 | 21,872.00
Pulaski County Housing Agency | 201 S Broadway | Little Rock | AK | 72201-2338 | 43,974.00
Conway County Housing Authority | P.O. Box 229 | Morrilton | AK | 72110 | 49,278.00
North Little Rock Housing Authority | 628 West Broadway Suite 100 | North Little Rock | AK | 72114 | 52,000.00
City of Madera | 205 North G Street Housing Services | Madera | CA | 93637-3512 | 65,436.00
Housing Authority of the County of Los Angeles | 700 W Main Street | Alhambra | CA | 91801-3312 | 762,739.00
Regional Housing Authority | 1455 Butte House Road | Yuba City | CA | 95993-2701 | 115,000.00
Imperial Valley Housing Authority | 1402 D Street | Brawley | CA | 92227-2117 | 65,000.00
Roseville Housing Authority | 316 Vernon Street, Ste. 150 | Roseville | CA | 95678-2649 | 72,000.00
Lake County Housing Commission | 16170 Main Street, Suite F Housing | Lower Lake | CA | 95457-7603 | 67,000.00
City of Norwalk | 12700 Norwalk Blvd Housing Authority | Norwalk | CA | 90650-3144 | 36,000.00
Housing Authority of the City of Redding | 777 Cypress Avenue Housing Division | Redding | CA | 96001-2718 | 67,291.00
Housing Authority of the County of Contra Costa | 3133 Estudillo P.O. Box 2759 | Martinez | CA | 94553-3258 | 152,547.00
El Dorado County Public Housing Authority | 2900 Fairlane Court | Placerville | CA | 95667-5335 | 59,902.00
Housing Authority of the City of Oakland | 1619 Harrison Street | Oakland | CA | 94612-3375 | 305,095.00
Culver City Housing Authority | 9770 Culver Blvd. Culver City Housing Authority | Culver City | CA | 90232-507 | 36,554.00
Housing Authority of the County of Riverside | 5555 Arlington Avenue | Riverside | CA | 92504-2506 | 504,000.00
Housing Authority of the County of Butte | 2039 Forest Avenue | Chico | CA | 95928-7042 | 71,557.00
Housing Authority of the City of Santa Barbara | 808 Laguna Street | Santa Barbara | CA | 93101-1590 | 203,425.00
Housing Authority of the City of San Buenaventura | 995 Riverside Street | Ventura | CA | 93001-1636 | 72,000.00
Housing Authority of the City of San Luis Obispo | 487 Leff Street Family Self Sufficiency | San Luis Obispo | CA | 93401-4347 | 124,769.00
Anaheim Housing Authority | 201 S Anaheim Blvd #203 | Anaheim | CA | 92805-9987 | 78,894.00
Housing Authority of the City of Napa | 1115 Seminary Street | Napa | CA | 94559-2512 | 78,894.00
Housing Authority of the County of Santa BARBARA | 815 West Ocean Avenue | Lompoc | CA | 93436-6526 | 72,000.00
Housing Authority of the County of San Bernardino | 715 E Brier Drive | San Bernardino | CA | 92408-2841 | 216,000.00
San Diego Housing Commission | 1122 Broadway Suite 300 | San Diego | CA | 92101-5629 | 453,099.00
Garden Grove Housing Authority | 12966 Euclid Street, Ste 150 Housing Authority | Garden Grove | CA | 92840-9202 | 76,274.00
Housing Authority of the County of San Joaquin | 2575 Grand Canal Blvd | Stockton | CA | 95207-8260 | 215,140.00
Santa Clara County Housing Authority | 505 West Julian St | San Jose | CA | 95110-2338 | 228,822.00
Oxnard Housing Authority | 435 South D Street | Oxnard | CA | 93030-5918 | 151,086.00
Housing Authority of the County of San Diego | 3989 Ruffin Road | San Diego | CA | 92123-1815 | 136,327.00
Housing Authority of the City of San Jose | 505 West Julian St | San Jose | CA | 95110-2338 | 152,547.00
Housing Authority of the County of Stanislaus | 1701 Robertson Road P.O. Box 581918 | Modesto | CA | 95358-33 | 149,102.00
City of Oceanside Community Development Commission | 300 N. Coast Highway Housing | Oceanside | CA | 92054-2823 | 72,000.00
Housing Authority of Alameda County | 22941 Atherton Street | Hayward | CA | 94541-6633 | 305,095.00
Sonoma County Community Development Commission | 1440 Guerneville road | Santa Rosa | CA | 95403-4107 | 76,274.00
Orange County Housing Authority | 1501 E St. Andrew Place Housing Assistance | Santa Ana | CA | 92705-4925 | 288,000.00
Housing Authority of the County of Marin | 4020 Civic Center Drive Supportive Housing | San Rafael | CA | 94903-4173 | 228,786.00
County of Shasta Housing Authority and Community Action Agency | 1450 Court Street Suite 108 | Redding | CA | 96001-1661 | 31,564.00
Area Housing Authority of the County of Ventura | 1400 West Hillcrest Drive | Newbury Park | CA | 91320-2721 | 69,000.00
Housing Authority of the County of San Mateo | 264 Harbor Blvd., #A | Belmont | CA | 94002-4017 | 381,370.00
Pomona Housing Authority | 505 S Garey Ave Housing Authority | Pomona | CA | 91766-3320 | 75,894.00
Vacaville Housing Authority | 40 Eldridge Avenue, Suite 2 | Vacaville | CA | 95688-6824 | 144,000.00
Solano County Housing Authority | 40 Eldridge Avenue Suite 2 | Vacaville | CA | 95688-6824 | 65,906.00
Housing Authority of the City of Long Beach | 521 East 4TH Street | Long Beach | CA | 90802-2502 | 299,612.00
Housing Authority of the County of Sacramento | 801 12th Street | Sacramento | CA | 95814-2947 | 143,230.00
Housing Authority of the City of Sacramento | 801 12 Street | Sacramento | CA | 95814-2947 | 67,599.00
The Housing Authority of the County of Santa Cruz | 2160 41st Avenue | Capitola | CA | 95010-2040 | 152,547.00
Housing Authority of the City of Los Angeles | 2600 Wilshire Boulevard Development Services | Los Angeles | CA | 90057-3400 | 831,319.00
City of Santa Rosa | 90 Santa Rosa Ave | Santa Rosa | CA | 95404-4904 | 72,000.00
The Housing Authority of the City of Santa Ana | P.O. Box 22030 Housing Authority | Santa Ana | CA | 92702-2030 | 152,547.00
Housing Authority of the City of Alameda | 701 Atlantic Ave. Housing Programs | Alameda | CA | 94501-2161 | 39,447.00
Housing Authority of the County of Kern | 601 24th St | Bakersfield | CA | 93301-4142 | 280,077.00
Housing Authority of Fresno County | 1331 Fulton Street | Fresno | CA | 93721-1630 | 66,413.00
Housing Authority of the County of Merced | 405 U Street | Merced | CA | 95341-6548 | 54,400.00
Boulder County Housing Authority | P.O. Box 471 Housing | Boulder | CO | 80306-471 | 216,000.00
Housing Authority of the City of Englewood | 3460 S Sherman St. Suite 101 | Englewood | CO | 80113-2664 | 54,548.00
Housing Authority of the City of Fort Collins | 1715 West Mountain Ave | Fort Collins | CO | 80521-2359 | 223,260.00
Adams County Housing Authority | 3033 West 71st Street Housing and Housing Services | Westminster | CO | 80030-5440 | 59,195.00
City of Grand Junction Housing Authority | 8 Foresight Circle | Grand Junction | CO | 81505-1014 | 54,624.00
Housing Authority of the City and County of Denver | 1035 Osage Street P.O. Box 40305 | Denver | CO | 80204-4035 | 328,791.00
Colorado Department of Local Affairs, Division of Housing | 1313 Sherman Street, Room 320 | Denver | CO | 80203-2288 | 65,000.00
Housing Authority of the City of Norwalk | 24½ Monroe Street | Norwalk | CT | 6856-508 | 144,000.00
Trout Brook Realty Advisors formerly WHHC | 80 Shield Street | West Hartford | CT | 6110-1920 | 75,741.00
Housing Authority of the City of New Haven | 360 Orange Street | New Haven | CT | 6511-6403 | 142,065.00
The Housing Authority of the Town of Greenwich | 249 Milbank Avenue Family Housing | Greenwich | CT | 6830-6680 | 72,000.00
Connecticut Department of Housing | 505 Hudson Street Individual and Family Assist. | Hartford | CT | 6106-7107 | 206,880.00
Housing Authority of the City of Meriden | 22 Church St. Apt, Suite, Bldg. (optional) | Meriden | CT | 6451-468 | 156,914.00
Housing Authority of the City of New Britain | 16 Armistice St | New Britain | CT | 6053-3927 | 72,000.00
Housing Authority of the City of Stamford | 22 Clinton Avenue | Stamford | CT | 6901-3316 | 72,000.00
Derby Housing Authority | P.O. Box 843 | Derby | CT | 6418 | 63,099.00
Ansonia Housing Authority | 36 Main Street | Ansonia | CT | 6401 | 72,000.00
Bristol Housing Authority | 164 Jerome Avenue | Bristol | CT | 6010 | 70,636.00
Housing Authority of the City of Danbury | 2 Mill Ridge Road | Danbury | CT | 6811-5231 | 52,806.00
Wilmington Housing Authority | 400 N Walnut Street | Wilmington | DE | 19801-4600 | 142,000.00
District of Columbia Housing Authority | 1133 North Capitol Street NE, Ste. 147 Family Self-Sufficiency | Washington | DC | 20002-7599 | 228,821.00
West Palm Beach Housing Authority | 3700 Georgia Avenue | West Palm Beach | FL | 33405-2176 | 132,002.00
The Housing Authority of the City of Fort Pierce, Florida | 511 Orange Avenue | Fort Pierce | FL | 34950-4278 | 66,620.00
The Housing Authority of the City of Daytona Beach | 211 N. Ridgewood Avenue #300 | Daytona Beach | FL | 32114-3294 | 104,808.00
Punta Gorda Housing Authority | 340 Gulf Breeze Avenue | Punta Gorda | FL | 33950-5634 | 52,320.00
Housing Authority of the City of Deerfield Beach | 533 S Dixie Highway, STE 201 Family Self Sufficiency | Deerfield Beach | FL | 33441-4665 | 55,680.00
Housing Authority of the City of Tampa | 5301 W Cypress Street Family Self-Sufficiency | Tampa | FL | 33607-1727 | 487,893.00
Hialeah Housing Authority | 75 East 6th Street Family-Self-Sufficiency | Hialeah | FL | 33010-4845 | 130,399.00
Lee County Housing Authority | 14170 Warner Circle | North Fort Myers | FL | 33903-3528 | 56,951.00
Broward County Housing Authority | 4780 North State Road 7 | Lauderdale Lakes | FL | 33319-5860 | 255,673.00
Delray Beach Housing Authority | 82 NW 5th Avenue | Delray Beach | FL | 33444-2612 | 52,969.00
Housing Authority of the City of Miami Beach | 200 Alton Road FSS | Miami Beach | FL | 33139-6742 | 63,000.00
Pasco County Housing Authority | 36739 S.R. 52 Family Self-Sufficiency | Dade City | FL | 33525-5101 | 42,571.00
Milton Housing Authority | 5668 Byrom Street | Milton | FL | 32570 | 72,000.00
Public Housing and Community Development | 701 NW 1st Ct 16th Floor | Miami | FL | 33136-3914 | 245,697.00
Winter Haven Housing Authority | 2653 Avenue C. South West | Winter Haven | FL | 33880 | 144,000.00
Pahokee Housing Authority | 465 Friend Terrace Family Self-Sufficiency | Pahokee | FL | 33476-1941 | 23,535.00
Orange County Housing and Community Development | 525 E South Street Orange County Housing and Comm | Orlando | FL | 32801-2817 | 54,429.00
The Housing Authority of the City of Fort Lauderdale | 500 W Sunrise Blvd Family Self-Sufficiency | Fort Lauderdale | FL | 33311-7234 | 125,378.00
Sarasota Housing Authority | 2069 S Osprey Ave | Sarasota | FL | 34236 | 42,496.00
Boca Raton Housing Authority | 2333A W Glades Rd | Boca Raton | FL | 33431-7305 | 54,106.00
Clearwater Housing Authority | 28050 U.S. Hwy 19 N., Suite 103 | Clearwater | FL | 33761-2600 | 55,587.00
Housing Authority of the City of Fort Myers | 4224 Renaissance Preserve Way FSS Coordinators | Fort Myers | FL | 33916-2310 | 208,666.00
Walton County Housing Agency | 63 BoPete Manor Road Citizen Services | DeFuniak Springs | FL | 32435-2943 | 38,412.00
Pinellas County Housing Authority | 11479 Ulmerton Road | Largo | FL | 33778-1147 | 118,000.00
Tallahassee Housing Authority | 2940 Grady Rd. | Tallahassee | FL | 32312 | 72,000.00
Palm Beach County Housing Authority | 3432 W 45th St | West Palm Beach | FL | 33407-1844 | 115,000.00
Jacksonville Housing Authority | 1300 Broad Street N JHA Family Self-Sufficiency | Jacksonville | FL | 32202-3938 | 322,860.00
Ocala Housing Authority | P.O. Box 2468 1629 NW 4th St | Ocala | FL | 34478-2468 | 92,110.00
Housing Authority of Brevard County | 1401 Guava Ave | Melbourne | FL | 32935 | 132,200.00
Housing Authority of the City of Lakeland | 430 Hartsell Avenue Lakeland | Lakeland | FL | 33815-4502 | 72,000.00
Housing Authority of Columbus, Georgia | Post Office Box 630 1000 Wynnton Road | Columbus | GA | 31902-630 | 105,100.00
Griffin Housing Authority | 327 S 9th Street | Griffin | GA | 30224 | 72,000.00
Housing Authority of the City of Carrollton | 1 Roop Street | Carrollton | GA | 30117-4448 | 106,967.00
Housing Authority of the City of Jonesboro | 203 Hightower Street P.O. Box 458 | Jonesboro | GA | 30237-458 | 130,664.00
Northwest Georgia Housing Authority | 326 West 9th Street | Rome | GA | 30162-1428 | 105,300.00
Housing Authority of Fulton County, Georgia | 4273 Wendell Drive | Atlanta | GA | 30336-1632 | 32,745.00
Housing Authority of Newman | 48 Ball Street | Newnan | GA | 30263-2307 | 78,894.00
Housing Authority of the City of East Point, Georgia | 3056 Norman Berry Drive | East Point | GA | 30364-363 | 62,500.00
Housing Authority of the City of Marietta | 95 Cole Street Family Self-Sufficiency | Marietta | GA | 30060-2090 | 115,944.00
Housing Authority of the City of College Park, Georgia | 2000 Princeton Avenue Housing Assistance | College Park | GA | 30337-2412 | 144,000.00
Macon-Bibb County Housing Authority | 2015 Felton Avenue | Macon | GA | 31201-4928 | 60,434.00
Tri-City Housing Authority | P.O. Box 220 33 Martin Luther King Jr. Drive | Woodland | GA | 31836-220 | 44,293.00
The Housing Authority of the City of Atlanta, Georgia | 230 John Wesley Dobbs Avenue, NE | Atlanta | GA | 30303-2421 | 276,959.00
Housing Authority of the City of Albany, GA | P.O. Box 485 | Albany | GA | 31702-485 | 42,072.00
Housing Authority of the City of Augusta, Georgia | 1435 Walton Way | Augusta | GA | 30901-2609 | 171,950.00
Housing Authority of Savannah | P.O. Box 1179 | Savannah | GA | 31402-1179 | 220,960.00
Guam Housing and Urban Renewal Authority | 117 Bien Venida Avenue | Sinajana | GQ | 96910-3643 | 139,352.00
Maui, County of | 200 S High Street Housing | Wailuku | HI | 96793-2155 | 43,135.00
Hawaii County Housing Agency | 1990 Kinoole Street Suite 102 OHCD | Hilo | HI | 96720-5293 | 66,937.00
Kauai County Housing Agency | 4444 Rice Street Suite 330 | Lihue | HI | 96766-1340 | 142,000.00
Hawaii Public Housing Authority | 1002 North School Street Hawaii Public Housing Auth. | Honolulu | HI | 96817-6912 | 72,000.00
Idaho Housing and Finance Association | P.O. Box 7899 565 W Myrtle | Boise | ID | 83707-1899 | 289,452.00
Ada County Housing Authority | 1001 S Orchard St | Boise | ID | 83705-1932 | 125,496.00
Boise City Housing Authority | 1001 S Orchard St | Boise | ID | 83705-1932 | 125,498.00
Southwestern Idaho Cooperative Housing Authority | 377 Cornell St | Middleton | ID | 83644-9903 | 104,196.00
Nampa Housing Authority | 211 19th Avenue North | Nampa | ID | 83687-4402 | 44,977.00
Housing Authority of Marion County | 719 Howard St | Centralia | IL | 62801-689 | 25,000.00
Winnebago County Housing Authority | 3617 Delaware Street | Rockford | IL | 61102-1506 | 144,000.00
Rockford Housing Authority | 223 S Winnebago Street | Rockford | IL | 61102-9904 | 144,000.00
Housing Authority of the City of Freeport | 1052 West Galena | Freeport | IL | 61032-3814 | 72,000.00
Madison County Housing Authority | 2 Eastport Plaza Drive | Collinsville | IL | 62234-4909 | 71,789.00
Lake County Housing Authority | 33928 North Route 45 | Grayslake | IL | 60020-1700 | 250,983.00
Kankakee County Housing Authority | 185 N. St. Joseph Ave. P.O. Box 965 | Kankakee | IL | 60901-965 | 45,200.00
St. Clair County Housing Authority | 1790 S 74th St | Belleville | IL | 62223-3366 | 59,866.00
Waukegan Housing Authority | 215 South Martin Luther King Jr. Avenue | Waukegan | IL | 60085-5522 | 58,368.00
Housing Authority of Joliet | 6 South Broadway | Joliet | IL | 60436-1753 | 35,908.00
Chicago Housing Authority | 60 East Van Buren | Chicago | IL | 60605-1241 | 904,560.00
Menard County Housing Authority | 101 West Sheridan Rd., P.O. Box 168 | Petersburg | IL | 62675-1349 | 60,000.00
Housing Authority of Henry County | 125 North Chestnut Street Family Self-Sufficiency | Kewanee | IL | 61443-2110 | 94,700.00
Rock Island Housing Authority | 227 21st Street | Rock Island | IL | 61201-8822 | 64,538.00
Peoria Housing Authority | 100 South Richard Pryor Place | Peoria | IL | 61605-3905 | 113,869.00
Springfield Housing Authority | 200 North Eleventh Street Self-Sufficiency Programs | Springfield | IL | 62703-1004 | 263,338.00
Housing Authority of the City of Bloomington | 104 E Wood Street | Bloomington | IL | 61701-6768 | 42,500.00
Macoupin County Housing Authority | 760 Anderson Street P.O. Box 226 | Carlinville | IL | 62626-1003 | 45,786.00
Housing Authority of the City of East Saint Louis | 700 North 20th Street Asset Management | East St. Louis | IL | 62205-1814 | 72,000.00
Housing Authority of the City of Elgin | 120. S State Street | Elgin | IL | 60123 | 72,000.00
DuPage Housing Authority | 711 E Roosevelt Rd | Wheaton | IL | 60187-5646 | 122,195.00
Housing Authority of Cook County | 175 W Jackson Blvd., Suite 350 | Chicago | IL | 60604-3042 | 188,747.00
Housing Authority of the City of Hammond, IN | 1402 173rd St Family Self Sufficiency | Hammond | IN | 46324-2861 | 61,944.00
Housing Authority of the City of Kokomo | 210 E Taylor St. P.O. Box 1207 | Kokomo | IN | 46903-1207 | 52,337.00
Housing Authority of the City of Bloomington | 1007 N. Summit St | Bloomington | IN | 47404-3712 | 94,004.00
Housing Authority of the City of Terre Haute | P.O. Box 3086 Resident & Community Services | Terre Haute | IN | 47803-86 | 112,445.00
Housing Authority City of Vincennes | 501 Hart Street P.O. Box 1636 | Vincennes | IN | 47591-2103 | 44,509.00
Indianapolis Housing Agency (IHA) | 1919 N. Meridian Street | Indianapolis | IN | 46202-1303 | 255,162.00
Housing Authority of the City of Gary | 578 Broadway | Gary | IN | 46402 | 50,951.00
Housing Authority of the City of Columbus IN | 799 McClure Road PIH | Columbus | IN | 47201-6610 | 47,769.00
New Albany Housing Authority | P.O. Box 11 | New Albany | IN | 47150-11 | 177,578.00
Housing Authority of South Bend | 501 Alonzo Watson Drive | South Bend | IN | 46601 | 43,642.00
Fort Wayne Housing Authority | 7315 Hanna Street | Fort Wayne | IN | 46816-3489 | 148,878.00
The Housing Authority of the City of Evansville | 402 Court Street Suite B | Evansville | IN | 47708 | 132,921.00
Marion Housing Authority | 601 S Adams St | Marion | IN | 46953 | 72,000.00
Eastern Iowa Regional Housing Authority | 7600 Commerce Park | Dubuque | IA | 52002-9673 | 206,170.00
Southern Iowa Regional Housing Authority | 219 N. Pine Street | Creston | IA | 50801-2413 | 54,052.00
Region XII Regional Housing Authority | 320 E 7th P.O. Box 663 | Carroll | IA | 51401 | 53,539.00
City of Des Moines Municipal Housing Agency | 2309 Euclid Ave. Supportive Services—FSS | Des Moines | IA | 50310-5703 | 224,430.00
City of Sioux City Housing Authority | 405 6th Street, Suite 107, P.O. Box 447 Housing Services Division | Sioux City | IA | 51102-447 | 144,000.00
Central Iowa Regional Housing Authority | 1201 SE Gateway Drive | Grimes | IA | 50111-6637 | 35,000.00
Municipal Housing Agency of the City of Fort Dodge | 700 South 17th Street | Fort Dodge | IA | 50501-5300 | 103,801.00
City of Cedar Rapids | 101 First Street SE Housing Services | Cedar Rapids | IA | 52401-1205 | 152,547.00
Muscatine, City of d/b/a Muscatine Municipal Housing Agency | 215 Sycamore Street | Muscatine | IA | 52761-3839 | 60,203.00
Iowa City Housing Authority | 410 E Washington Street | Iowa City | IA | 52240-1825 | 135,889.00
Johnson County, Kansas | 12425 West 87th Street Parkway, Suite 200 Housing Services | Lenexa | KS | 66215-4524 | 64,618.00
City of Wichita Kansas Housing Authority | 455 N Main St 10th Floor | Wichita | KS | 67202-1600 | 199,727.00
Lawrence-Douglas County Housing Authority | 1600 Haskell Avenue | Lawrence | KS | 66044-4399 | 239,921.00
Salina Housing Authority | P.O. Box 1202, 469 S 5th Street | Salina | KS | 67402-1202 | 50,000.00
NEKCAP, Inc | 1260 220th Street P.O. Box 380 | Hiawatha | KS | 66434-380 | 54,629.00
Topeka Housing Authority | 2010 SE California Ave | Topeka | KS | 66607-1444 | 51,855.00
City of Olathe | P.O. Box 768 200 West Santa Fe Street | Olathe | KS | 66051-768 | 54,635.00
Pineville Urban Renewal & Community | 114 W Kentucky Avenue | Pineville | KY | 40977-460 | 41,884.00
Cumberland Valley Regional Housing Authority | P.O. Box 806 338 Court Square | Barbourville | KY | 40906-806 | 119,852.00
Housing Authority of Covington | 2300 Madison Avenue | Covington | KY | 41014-1237 | 65,000.00
Boone County Fiscal Court Assisted Housing Department | 2950 Washington P.O. Box 536 | Burlington | KY | 41005 | 66,373.00
City of Covington CDA | 2300 Madison Avenue 2nd floor | Covington | KY | 41014-2237 | 60,555.00
Appalachian Foothills Housing Agency, Inc | 1214 Riverside Blvd | Flatwoods | KY | 41144-1635 | 44,651.00
City of Richmond Section 8 Housing | P.O. Box 250 | Richmond | KY | 40476-250 | 100,000.00
Housing Authority of Newport, KY | 30 East 8th Street | Newport | KY | 41071-459 | 61,894.00
Georgetown Housing Authority | 139 Scroggin Park Family Self-Sufficiency | Georgetown | KY | 40324-2039 | 47,285.00
Housing Authority of Frankfort | 590 Walter Todd Drive | Frankfort | KY | 40601-2026 | 56,795.00
Louisville Metro Housing Authority | 420 South Eighth Street | Louisville | KY | 40203-1906 | 461,726.00
Housing Authority of Glasgow | 111 Bunche Avenue P.O. Box 1745 | Glasgow | KY | 42142-1745 | 51,342.00
Kentucky Housing Corporation | 1213 Louisville Road Tenant Assistance Programs | Frankfort | KY | 40601-6156 | 121,654.00
Lexington-Fayette Urban County Housing Authority | 300 W New Circle Road | Lexington | KY | 40505-1428 | 115,073.00
Housing Authority of Bowling Green | 247 Double Springs Road | Bowling Green | KY | 42101-5160 | 49,500.00
Housing Authority of the City of Shreveport | 2500 Line Avenue | Shreveport | LA | 71104-3022 | 104,323.00
Terrebonne Parish Consolidated Government | 809 Barrow Street Section 8 | Houma | LA | 70360 | 50,372.00
Calcasieu Parish Police Jury Human Services Housing Department | 2001 Moeling Street | Lake Charles | LA | 70601 | 13,000.00
Housing Authority of Jefferson Parish | 1718 Betty St | Marrero | LA | 70072-3318 | 120,000.00
St. James Parish Housing Authority | 2627 King Avenue P.O. Box 280 | Lutcher | LA | 70071 | 69,380.00
Portland Housing Authority | 14 Baxter Boulevard | Portland | ME | 4101-1822 | 78,894.00
Maine State Housing Authority | 353 Water St | Augusta | ME | 4330-4678 | 62,702.00
City of Caribou | 25 High St | Caribou | ME | 4736-25 | 57,681.00
Westbrook Housing Authority | 30 Liza Harmon Drive Family Self-Sufficiency | Westbrook | ME | 4092-3438 | 47,501.00
Lewiston Housing Authority | One College Street | Lewiston | ME | 4240-7175 | 58,873.00
Housing Authority of the City of Old Town | 358 Main Street P.O. Box 404 | Old Town | ME | 4468-404 | 47,944.00
Augusta Housing | 33 Union Street, Suite 3 | Augusta | ME | 4330-6800 | 32,484.00
Housing Authority of the City of Brewer | 15 Colonial Circle, Suite 1 | Brewer | ME | 4412-1576 | 61,213.00
Bangor Housing Authority | 161 Davis Rd | Bangor | ME | 4401-2310 | 63,944.00
Housing Authority of the City of Frederic | 209 Madison St | Frederick | MD | 21701-6536 | 73,653.00
Housing Authority of Washington County | 319 E Antietam St 2nd Floor | Hagerstown | MD | 21740-5701 | 72,000.00
Hagerstown Housing Authority | 35 W Baltimore Street | Hagerstown | MD | 21740-6059 | 177,252.00
Havre De Grace Housing Authority | 101 Stansbury Court | Havre De Grace | MD | 21078-2641 | 72,000.00
Harford County, Maryland | 15 South Main Street | Bel Air | MD | 21014-8725 | 32,154.00
Carroll County Commissioners | 225 N. Center Street | Westminster | MD | 21157-5108 | 62,716.00
Howard County Housing Commission | 9770 Patuxent Woods Drive Suite 100 | Columbia | MD | 21046-3374 | 61,059.00
Housing Authority of the City of Annapolis | 1217 Madison Ave Resident Services | Annapolis | MD | 21403-2203 | 72,000.00
Housing Commission of Anne Arundel County | 7477 Baltimore-Annapolis Blvd Housing Resources | Glen Burnie | MD | 21061-370 | 206,192.00
Cecil County Housing Agency | 200 Chesapeake Blvd, Suite 1800 | Elkton | MD | 21921-6682 | 53,594.00
Housing Authority of Baltimore City | 417 E Fayette Street | Baltimore | MD | 21202-3431 | 504,000.00
Rockville Housing Enterprises | 621 Southlawn Lane, Ste. A | Rockville | MD | 20850-1456 | 65,000.00
Housing Opportunities Commission | 10400 Detrick Avenue Housing Resources Division | Kensington | MD | 20895-2440 | 393,286.00
County of Baltimore | 6401 York Road Office of Housing | Baltimore | MD | 21212-2152 | 245,037.00
Housing Authority of St. Mary's County, Maryland | 21155 Lexwood Drive Suite C | Lexington Park | MD | 20653-4386 | 54,559.00
Brockton Housing Authority | 45 Goddard Road | Brockton | MA | 2303-7070 | 139,000.00
Melrose Housing Authority | 910 Main Street | Melrose | MA | 2176-2331 | 31,084.00
Lynn Housing Authority & Neighborhood Development (LHAND) | 10 Church Street | Lynn | MA | 1902-4418 | 116,810.00
Winchester Housing Authority | 13 Westley Street | Winchester | MA | 1890-2130 | 72,000.00
Milton Housing Authority | 65 Miller Avenue | Milton | MA | 2186-4756 | 72,000.00
Quincy Housing Authority | 80 Clay Street | Quincy | MA | 2170-2799 | 72,000.00
Arlington Housing Authority | 4 Winslow Street | Arlington | MA | 2474-3062 | 72,000.00
Hingham Housing Authority | 30 Thaxter Street | Hingham | MA | 2043-2143 | 33,000.00
Leominster Housing Authority | 100 Main Street | Leominster | MA | 1453-5599 | 57,674.00
Braintree Housing Authority | 25 Roosevelt Street | Braintree | MA | 2184-8663 | 62,271.00
Methuen Housing Authority | 24 Mystic Street | Methuen | MA | 1844-2499 | 64,628.00
Framingham Housing Authority | 1 John J Brady Drive Family Self Sufficiency | Framingham | MA | 1702-2300 | 74,500.00
Gloucester Housing Authority | 259 Washington Street P.O. Box 1599 | Gloucester | MA | 1931-1599 | 53,521.00
Taunton Housing Authority | 30 Olney Street, Suite B | Taunton | MA | 2780-4141 | 69,502.00
Commonwealth of Massachusetts | 100 Cambridge Street | Boston | MA | 2114-2531 | 785,547.00
Boston Housing Authority | 52 Chauncy Street Leased Housing | Boston | MA | 2111-2325 | 304,256.00
Wayland Housing Authority | 106 Main Street | Wayland | MA | 1778-4939 | 33,000.00
Holyoke Housing Authority | Suite One | Holyoke | MA | 1040 | 113,627.00
Worcester Housing Authority | 40 Belmont Street Resident Programs—FSS | Worcester | MA | 1605-2658 | 360,000.00
Greenfield Housing Authority | 1 Elm Terrace | Greenfield | MA | 1301-2203 | 63,961.00
Lowell Housing Authority | 350 Moody Street P.O. Box 60 | Lowell | MA | 1853-60 | 73,267.00
Medford Housing Authority | 121 Riverside Ave. Family Self-Sufficiency | Medford | MA | 2155-4611 | 72,000.00
Chelmsford Housing Authority | 10 Wilson St | Chelmsford | MA | 1824-3160 | 64,449.00
Somerville Housing Authority | 30 Memorial Road | Somerville | MA | 2145-1704 | 132,987.00
Revere Housing Authority | 70 Cooledge Street | Revere | MA | 2151-2963 | 36,000.00
Attleboro Housing Authority | 80 South Ave | Attleboro | MA | 2703 | 60,000.00
Fall River Housing Authority | 85 Morgan St | Fall River | MA | 2722 | 142,000.00
North Andover Housing Authority | One Morkeski Meadows | North Andover | MA | 1845 | 33,143.00
Malden Housing Authority | 630 Salem Street | Malden | MA | 2148-4361 | 136,788.00
Acton Housing Authority | 68 Windsor Avenue | Acton | MA | 1720-681 | 66,665.00
Plymouth Housing Authority | 130 Court Street | Plymouth | MA | 2360 | 52,000.00
Chelsea Housing Authority | 54 Locke St | Chelsea | MA | 2150-2250 | 72,000.00
Saginaw Housing Commission | 1803 Norman St P.O. Box 3225 | Saginaw | MI | 48605-3225 | 75,689.00
Wyoming Housing Commission | 2450 36th St SW | Wyoming | MI | 49519-6111 | 152,267.00
Ann Arbor Housing Commission | 727 Miller Avenue RAD PBV & HCV | Ann Arbor | MI | 48103-3353 | 144,000.00
Michigan State Housing Development Authority | 735 East Michigan Avenue P.O. Box 30044 | Lansing | MI | 48909-1474 | 1,067,835.00
Detroit Housing Commission | 1301 East Jefferson | Detroit | MI | 48207-3148 | 307,780.00
Lansing Housing Commission | 419 Cherry Street | Lansing | MI | 48933-2022 | 68,152.00
Kent, County of | 121 Franklin Street, SE Suite 110 | Grand Rapids | MI | 49507-1132 | 134,275.00
Plymouth Housing Commission | 1160 Sheridan Street | Plymouth | MI | 48170-1560 | 133,413.00
Westland Housing Commission | 32150 Dorsey Road | Westland | MI | 48186-4755 | 39,682.00
Traverse City Housing Commission | 150 Pine St | Traverse City | MI | 49684-2478 | 70,148.00
Pontiac Housing Commission | 132 Franklin Blvd | Pontiac | MI | 48341 | 72,000.00
Grand Rapids Housing Commission | 1420 Fuller Avenue | Grand Rapids | MI | 49507-2139 | 360,000.00
Housing & Redevelopment Authority of Clay County | 116 Center Ave E P.O. Box 99 | Dilworth | MN | 56529-99 | 73,431.00
Dakota County Community Development Agency | 1228 Town Centre Drive | Eagan | MN | 55123-1066 | 24,876.00
Mankato Economic Development Authority | 10 Civic Center Plaza P.O. Box 3368 | Mankato | MN | 56002-3368 | 61,611.00
Scott County Community Development Agency | 323 Naumkeag St | Shakopee | MN | 55379-1652 | 23,836.00
Housing & Redevelopment Authority of Virginia, MN | 442 Pine Mill Court FSS | Virginia | MN | 55792-3097 | 67,288.00
Public Housing Agency of the City of St. Paul | 555 N Wabasha Street Suite 400 | Saint Paul | MN | 55102-1602 | 23,447.00
City of Brainerd | 324 East River Rd | Brainerd | MN | 56401-3504 | 67,539.00
Washington County Community Development Agency | 7645 Currell Blvd | Woodbury | MN | 55125-2256 | 39,447.00
South Central MN Multi-County HRA | 422 Belgrade Ave. Ste. 102 | North Mankato | MN | 56003-3874 | 46,034.00
Housing and Redevelopment Authority of Duluth, MN | 222 E 2nd St P.O. Box 16900 | Duluth | MN | 55816-900 | 73,254.00
Southeastern Minnesota Multi-County HRA | 134 East Second Street | Wabasha | MN | 55981-1440 | 43,318.00
Housing Authority of St. Louis park | 5005 Minnetonka Boulevard HA | St. Louis Park | MN | 55416-2216 | 39,447.00
The Housing Authority of the City of Meridian | 2425 E Street | Meridian | MS | 39302-870 | 126,918.00
The Housing Authority of the City of Biloxi | 330 Benachi Avenue P.O. Box 447 | Biloxi | MS | 39533-447 | 48,922.00
South Delta Regional Housing Authority | 202 Weston Avenue | Leland | MS | 38756-202 | 106,500.00
Tennesse Valley Regional Housing Authority | P.O. BOX 1329 | Corinth | MS | 38835-1329 | 180,101.00
Mississippi Regional Housing Authority VIII | 10430 Three Rivers Rd Mailing P.O. Box 2347, Gulfport, MS 39505-2347 | Gulfort | MS | 39501-5914 | 105,222.00
The Housing Authority of the City of Jackson, MS | 2747 Livingston Road | Jackson | MS | 39213-6928 | 55,636.00
Mississippi Regional Housing Authority No. II | 900 Molly Barr Road | Oxford | MS | 38655-2106 | 35,000.00
Mississippi Regional Housing Authority, No. VII | P.O. Box 748 | McComb | MS | 39649 | 216,680.00
Mississippi Regional Housing Authority VI | 2180 Terry Road P.O. Box 8746 | Jackson | MS | 39204-8746 | 137,572.00
Housing Authority of the City of Liberty, MO | 17 East Kansas | Liberty | MO | 64068-2372 | 52,090.00
Phelps County Public Housing Agency | #4 Industrial Drive | St. James | MO | 65559-9998 | 59,946.00
Housing Authority of Kansas City, Missouri | 920 Main Suite 701 | Kansas City | MO | 64105-2017 | 287,995.00
Housing Authority of the City of Jefferson | 1040 Myrtle Ave. P.O. Box 1029 | Jefferson City | MO | 65109-2525 | 72,000.00
Economic Security Corporation of Southwest Area | 302 S Joplin St | Joplin | MO | 64801-2354 | 47,526.00
Saint Charles Housing Authority | 1041 Olive Street | Saint Charles | MO | 63301-4711 | 111,946.00
St. Francois County Public Housing Agency | 403 Parkway Dr. P.O. Box 308 | Park Hills | MO | 63601-308 | 27,887.00
St Charles County Government | 201 N Second St. Room 529 | St. Charles | MO | 63301 | 47,834.00
North East Community Action Corp | 16 N Court St. P.O. Box 470 | Bowling Green | MO | 63334-470 | 91,906.00
Ripley County Public Housing Agency | 3019 Fair Street | Poplar Bluff | MO | 63901-7044 | 43,840.00
St. Clair County PHA | 106 West Fourth Street Housing Division | Appleton City | MO | 64724-1402 | 166,387.00
Franklin County Public Housing Agency | P.O. Box 920 Housing Program | Hillsboro | MO | 63050-920 | 87,169.00
Housing Authority of St Louis County | 8865 Natural Bridge Road P.O. Box 23886 | St. Louis | MO | 63121 | 136,465.00
Housing Authority of the City of Springfield, Missouri | 421 W Madison St | Springfield | MO | 65806-2938 | 26,825.00
St. Louis Housing Authority | 3520 Page Boulevard Business Development | St. Louis | MO | 63106-1417 | 141,449.00
Housing Authority of the City of Columbia, Mo | 201 Switzler Street | Columbia | MO | 65203-4156 | 107,052.00
Housing Authority of Billings | 2415 1st Avenue North | Billings | MT | 59101-2318 | 50,771.00
Missoula Housing Authority | 1235 34th Street | Missoula | MT | 59801-8521 | 218,242.00
Douglas County Housing Authority | 5404 N 107th Plaza | Omaha | NE | 68134-1100 | 58,910.00
Housing Authority of the City of Lincoln | 5700 R Street Family Self-Sufficiency | Lincoln | NE | 68505-2332 | 129,935.00
Housing Authority of the City of Omaha | 1823 Harney Street Resident Opportunity | Omaha | NE | 68102-1908 | 225,210.00
Northeast Nebraska Joint Housing Agency | 1017 Avenue E P.O. Box 799 | Wisner | NE | 68791-799 | 50,590.00
Goldenrod Regional Housing Agency | 1017 Avenue E P.O. Box 799 | Wisner | NE | 68791-799 | 43,776.00
Kearney Housing Authority | 2715 I Avenue P.O. Box 1236 | Kearney | NE | 68848-1236 | 87,971.00
Housing Authority of the City of Reno | 1525 E 9th Street | Reno | NV | 89512-3012 | 113,553.00
Southern Nevada Regional Housing Authority | 340 North 11th Street Family Self Sufficiency | Las Vegas | NH | 89101-3125 | 710,050.00
Manchester Housing and Redevelopment Authority | 198 Hanover Street | Manchester | NH | 3104-6125 | 52,176.00
Dover Housing Authority | 62 Whittier Street | Dover | NH | 3820-2946 | 144,000.00
Keene Housing | 831 Court St | Keene | NH | 3431-1712 | 145,925.00
New Hampshire Housing Finance Authority | 32 Constitution Drive | Bedford | NH | 3110-6062 | 266,576.00
Housing Authority of the Town of Boonton | 125 Chestnut Street Voucher | Boonton | NJ | 7005-1130 | 72,000.00
Housing Authority Town of Dover | 215 East Blackwell Street | Dover | NJ | 7801 | 35,632.00
Housing Authority of the Borough of Madison | 24 Central Ave | Madison | NJ | 7940-1811 | 72,000.00
Woodbridge Housing Authority | 800 B Bunns Lane | Woodbridge | NJ | 7095-1765 | 26,709.00
Passaic County Public Housing Agency | 100 Hamilton Plaza Suite 510 | Paterson | NJ | 7505-2100 | 123,466.00
Housing Authority of the City of Jersey City | 400 U.S. Highway #1 Marion Gardens | Jersey City | NJ | 7306-6545 | 276,824.00
NJ Department of Community Affairs | 101 S Broad Street P.O. Box 051 | Trenton | NJ | 8625-51 | 72,000.00
Housing Authority of the City of Perth Amboy | 881 Amboy Avenue P.O. Box 390 | Perth Amboy | NJ | 8862-390 | 139,712.00
Housing Authority County of Morris | 99 Ketch Road | Morristown | NJ | 7960-2606 | 87,361.00
Lakewood Housing Authority | 317 Sampson Avenue P.O. Box 1599 | Lakewood | NJ | 8701-3565 | 73,840.00
Lakewood TWP Residential Assistance Program | 600 W Kennedy Blvd | Lakewood | NJ | 8701-1243 | 60,673.00
Housing Authority of Gloucester County | 100 Pop Moylan Blvd | Deptford | NJ | 8096-1947 | 53,912.00
Housing Authority of the City of Camden | 2021 Watson Street Suite 211 | Camden | NJ | 8105-1866 | 56,780.00
Monmouth County Public Housing Agency | 3000 Kozloski Road P.O. Box 3000 | Freehold | NJ | 7728-9969 | 72,000.00
Housing Authority of the Borough of Fort Lee | 1403 Teresa Drive, Suite FLHA | Fort Lee | NJ | 7024-2102 | 55,000.00
Housing Authority of the City of Newark | 500 Broad Street 2nd Floor | Newark | NJ | 7102-3112 | 134,897.00
Housing Authority of the City of Vineland | 191 West Chester Avenue | Vineland | NJ | 8360-5417 | 70,000.00
Irvington Housing Authority | 101 A Union Avenue Family Self Sufficiency | Irvington | NJ | 7111-3261 | 37,997.00
Housing Authority of the City of East Orange | East Orange Housing 7 Glenwood Avenue, Suite 304A | East Orange | NJ | 7017-1041 | 72,000.00
Atlantic City Housing & Redevelopment Authority | 227 North Vermont Avenue, 17th Floor | Atlantic City | NJ | 8401-5563 | 64,959.00
Housing Authority of the City of Orange | 340 Thomas Blvd | Orange | NJ | 7050 | 68,000.00
Pleasantville Housing Authority | 168 North Main Street | Pleasantville | NJ | 8232-2569 | 77,699.00
Housing Authority of the City of Paterson | 60 Van Houten Street P.O. Box H | Paterson | NJ | 7505-1028 | 56,972.00
The Housing Authority of Plainfield | 510 East Front Street | Plainfield | NJ | 7060 | 69,000.00
Bernalillo County Housing Department | 1900 Bridge Blvd SW Community Services | Albuquerque | NM | 87105-3164 | 80,334.00
Clovis Housing and Redevelopment Agency, Inc | 2101 W Grand Avenue | Clovis | NM | 88101-7088 | 102,122.00
El Camino Real Housing Authority | P.O. Box 00 301 Otero Avenue | Socorro | NM | 87801-5000 | 25,633.00
Eastern Regional Housing Authority | P.O. Drawer 2057 | Roswell | NM | 88202-2057 | 122,420.00
Santa Fe Civic Housing Authority | 664 Alta Vista Street | Santa Fe | NM | 87505-4149 | 62,284.00
Mesilla Valley Public Housing Authority | 926 S San Pedro St Housing Choice Voucher | Las Cruces | NM | 88001-3637 | 50,121.00
Town of Islip Housing Authority | 963 Montauk Highway | Oakdale | NY | 11769-1433 | 60,551.00
North Hempstead Housing Authority | 899 Broadway | Westbury | NY | 11590 | 72,000.00
City of Oswego Community Development Office | 159 Liberty Street Housing Choice Voucher | Oswego | NY | 13126-1904 | 36,000.00
Village of Kiryas Joel Housing Authority | 51 Forest Road, Suite 360 | Monroe | NY | 10950-2938 | 73,094.00
Town of Babylon Housing Assistance Agency | 281 Phelps Lane Housing Assistance Agency | N. Babylon | NY | 11703-4006 | 36,000.00
Syracuse Housing Authority | 516 Burt Street | Syracuse | NY | 13202-3934 | 207,000.00
Cohoes Housing Authority | 11 Federal Street | Saratoga Springs | NY | 12866-4111 | 68,876.00
Town of Colonie | 11 Federal Street | Saratoga Springs | NY | 12866-4111 | 56,708.00
Village of Ballston Spa | 11 Federal Street | Saratoga Springs | NY | 12866-4111 | 46,830.00
Village of Corinth | 11 Federal Street | Saratoga Springs | NY | 12866-4111 | 67,174.00
Village of Fort Plain | 11 Federal Street | Saratoga Springs | NY | 12866-4111 | 68,706.00
Gloversville Housing Authority | 11 Federal Street | Saratoga Springs | NY | 12866-4111 | 104,633.00
Town of Guilderland | 11 Federal Street | Saratoga Springs | NY | 12866-4111 | 67,897.00
Village of Highland Falls | 11 Federal Street | Saratoga Springs | NY | 12866-4111 | 66,704.00
Mechanicville Housing Authority | 11 Federal Street | Saratoga Springs | NY | 12866-4111 | 69,192.00
City of Utica Section 8 Program | 1 Kennedy Plaza Section 8 Program | Utica | NY | 13502-4236 | 51,894.00
Village of Scotia | 11 Federal Street | Saratoga Springs | NY | 12866-4111 | 59,384.00
Town of Rotterdam | 11 Federal Street | Saratoga Springs | NY | 12866-4111 | 58,682.00
City of Johnstown | 11 Federal Street | Saratoga Springs | NY | 12866-4111 | 66,704.00
NYS Housing Trust Fund Corp | 38-40 State Street Statewide Section 8 | Albany | NY | 12207-2837 | 1,448,098.00
Troy Housing Authority | One Eddy's Lane | Troy | NY | 12180-1423 | 144,000.00
Ithaca Housing Authority | 800 S Plain St | Ithaca | NY | 14850-5347 | 151,988.00
Municipal Housing Authority of the City of Schenectady | 375 Broadway | Schenectady | NY | 12305-2519 | 122,771.00
City of North Tonawanda | 216 Payne Ave | North Tonawanda | NY | 14120-5446 | 50,975.00
Town of Amherst | 5583 Main St | Williamsville | NY | 14221-5488 | 164,685.00
Rochester Housing Authority | 675 West Main Street | Rochester | NY | 14611-2313 | 201,581.00
Municipal Housing Authority of the City of Utica, New York | 509 2nd Street, Suite One | Utica | NY | 13501-2540 | 72,000.00
Albany Housing Authority | 200 South Pearl Street | Albany | NY | 12202-2028 | 228,262.00
Town of Huntington Housing Authority | 1A Lowndes Avenue Family Self Sufficiency | Huntington Station | NY | 11746-1261 | 72,000.00
Rental Assistance Corporation of Buffalo | 470 Franklin St | Buffalo | NY | 14202-1302 | 109,375.00
Town of Brookhaven | One Independence Hill HCV Program | Farmingville | NY | 11738-362 | 71,418.00
Monticello Housing Authority | 76 Evergreen Drive | Monticello | NY | 12701 | 72,000.00
Buffalo Municipal Housing Authority | 300 Perry Street Resident Services | Buffalo | NY | 14204-2270 | 34,500.00
Amsterdam Housing Authority | 52 Division Street FSS Program | Amsterdan | NY | 12010-4002 | 101,435.00
New York City Department of Housing Preservation and Development | 100 Gold Street Tenant Resources | New York | NY | 10038-1605 | 1,517,359.00
New York City Housing Authority | 250 Broadway Office of the EVP | New York | NY | 10007-2516 | 216,000.00
City of Lockport Housing Authority Inc | 301 Michigan St | Lockport | NY | 14094 | 72,000.00
Western Piedmont Council of Governments | 1880 2nd Ave NW P.O. Box 9026 | Hickory | NC | 28603-9026 | 76,274.00
Housing Authority of the Town of Lauriburg | Post Office Box 1437 Family Self-Sufficiency | Laurinburg | NC | 28353-1437 | 52,500.00
Roxboro Housing Authority | 500 Mt. Bethel Church Street P.O. Box 996 | Roxboro | NC | 27573-4795 | 62,975.00
Housing Authority of the City of Wilson, NC | 301 Nash St N | Wilson | NC | 27893-4130 | 66,394.00
Lexington Housing Authority | 1 Jamaica Dr. | Lexington | NC | 27292-2571 | 35,871.00
Mountain Projects, INC. | 2177 Asheville Road | Waynesville | NC | 28786-3139 | 33,975.00
City of Hickory Public Housing Authority | 841 South Center Street | Hickory | NC | 28602 | 59,741.00
Isothermal Planning and Development Commission | P.O. Box 841 Housing Department | Rutherfordton | NC | 28139-841 | 35,744.00
Western Carolina Community Action | P.O. Box 685 220 King Creek Blvd | Hendersonville | NC | 28793-685 | 68,717.00
Northwestern Regional Housing Authority | 869 Highway 105 Extension, Suite 10 P.O. Box 2510 | Boone | NC | 28607-4958 | 206,884.00
Chatham County Housing Authority | 13450 US Hwy. 64 West P.O. Box 571 | Siler City | NC | 27344-6443 | 49,337.00
Economic Improvement Council, Inc | 712 Virginia Road | Edenton | NC | 27932-549 | 51,122.00
Housing Authority of the City of Kinston, NC | 608 N Queen St Kinston Housing Authority | Kinston | NC | 28501-697 | 110,941.00
Gastonia Housing Authority | 340 W Long Ave. P.O. Box 2398 | Gastonia | NC | 28053-2398 | 52,056.00
Rowan County Housing Authority | 310 Long Meadow Drive | Salisbury | NC | 28147-8200 | 108,000.00
Housing Authority of the City of High Point | 500 E Russell Ave | High Point | NC | 27260-6746 | 182,288.00
Mid-East Regional Housing Authority | 415 East Boulevard, Suite 140 P.O. Box 811 | Williamston | NC | 27892-9764 | 46,566.00
Housing Authority of the City of Greensboro | 450 N Church Street | Greensboro | NC | 27401-2001 | 282,581.00
Twin Rivers Opportunities, Inc | 318 Craven St | New Bern | NC | 28560-1482 | 74,156.00
Sandhills Community Action Program, Inc | 340 Commerce Avenue, Suite 20 | Southern Pines | NC | 28387-7168 | 45,000.00
The Housing Authority of the City of Charlotte | 400 East Blvd. Executive Office Division | Charlotte | NC | 28203-5584 | 116,170.00
Coastal Community Action, Inc | P.O. Box 729 | Newport | NC | 28570-729 | 39,807.00
Burlington Housing Authority | 133 N Ireland Street | Burlington | NC | 27217-2635 | 66,584.00
The Housing Authority of the City of Durham | 330 East Main Street | Durham | NC | 27701-3718 | 132,977.00
Eastern Carolina Human Services Agency, INC | 237 New River Dr. Suite 1 P.O. Box 796 | Jacksonville | NC | 28541-796 | 64,282.00
North Wilkesboro Housing Authority | P.O. Box 1373 101 Hickory Street | North Wilkesboro | NC | 28659 | 60,000.00
Housing Authority of the County of Wake | 100 Shannon Dr. P.O. Box 399 | Zebulon | NC | 27597 | 56,000.00
Washington Housing Authority | 809 Pennsylvania Ave. P.O. Box 1046 | Washington | NC | 27889 | 45,000.00
Housing Authority of the City of Asheville | 165 S French Broad Avenue STE 1 | Asheville | NC | 28801-3947 | 139,659.00
Housing Authority of the City of Greenville | 1103 Broad Street | Greenville | NC | 27834-3952 | 170,000.00
Housing Authority of the City of Winston-Salem | 500 W 4th Street Suite 300 | Winston-Salem | NC | 27101-2782 | 62,912.00
Sanford Housing Authority | P.O. Box 636 | Sanford | NC | 27331-4115 | 119,120.00
The Housing Authority of the City of Wilmington, NC | 1524 S 16th Street | Wilmington | NC | 28401-6426 | 64,530.00
City of Concord Housing Department | 283 Harold Goodman Circle SW | Concord | NC | 28025-5442 | 51,726.00
Statesville Housing Authority | 110 West Allison Street Family Self-Sufficiency | Statesville | ND | 28677-6616 | 194,513.00
The Housing Authority of the City of Grand Forks ND | 1405 1st Ave North | Grand Forks | ND | 58203-3484 | 118,687.00
Fargo Housing and Redevelopment Authority | 325 Broadway | Fargo | OH | 58102-430 | 124,624.00
Meigs Metropolitan Housing Authority | 441 General Hartinger Parkway | Middleport | OH | 45760-1251 | 23,449.00
Knox Metropolitan Housing Authority | 201-A West High Street | Mount Vernon | OH | 43050-2427 | 23,122.00
Morrow Metropolitan Housing Authority | 619 West Marion Road, Suite 107 | Mount Gilead | OH | 43338-1097 | 39,984.00
Fairfield Metropolitan Housing Authority | 315 N Columbus St | Lancaster | OH | 43130-1619 | 113,000.00
Morgan Metropolitan Housing Authority | 4580 N St. Rt. 376 | McConnelsville | OH | 43756-9701 | 47,000.00
Youngstown Metropolitan Housing Authority | 131 West Boardman Street Youngstown FSS Program | Youngstown | OH | 44503-1337 | 244,140.00
Pickaway Metro Housing Authority | 176 Rustic Dr | Circleville | OH | 43113-1576 | 24,069.00
Parma Public Housing Agency | 1440 Rockside Road Suite 306 Housing Choice Voucher Program | Pamra | OH | 44134-2775 | 50,483.00
Jackson Metropolitan Housing Authority | 249 West 13th Street P.O. Box 619 | Wellston | OH | 45692-619 | 40,750.00
Akron Metropolitan Housing Authority | 100 West Cedar Street | Akron | OH | 44307-2502 | 351,072.00
Tuscarawas Metropolitan Housing Authority | 134 Second Street SW | New Philadelphia | OH | 44663-3861 | 50,000.00
Athens Metropolitan Housing Authority | 10 Hope Drive | Athens | OH | 45701-2136 | 41,494.00
Vinton Metropolitan Housing Authority | 310 West High Street P.O. Box 487 | McArthur | OH | 45651-487 | 39,323.00
Cuyahoga Metropolitan Housing Authority | 8120 Kinsman Road | Cleveland | OH | 44104-4310 | 247,406.00
Erie Metropolitan Housing Authority | 322 Warren Street | Sandusky | OH | 44870-2265 | 51,715.00
Portage Metropolitan Housing Authority | 2832 State Route 59 FSS | Ravenna | OH | 44266-1650 | 46,504.00
Chillicothe Metropolitan Housing Authority | 178 West Fourth Street | Chillicothe | OH | 45601-3219 | 115,419.00
Lorain Metropolitan Housing Authority | 1600 Kansas Ave | Lorain | OH | 44052-3317 | 121,759.00
Clinton Metropolitan Housing Authority | 478 Thorne Avenue | Wilmington | OH | 45177-1222 | 50,750.00
Cambridge Metropolitan Housing Authority | 1100 Maple Court P.O. Box 1388 | Cambridge | OH | 43725-6388 | 32,900.00
Zanesville Metropolitan Housing Authority | 407 Pershing Road | Zanesville | OH | 43701-6871 | 222,874.00
Lake Metropolitan Housing Authority | 189 First St | Painesville | OH | 44077-3111 | 60,000.00
Lucas Metropolitan Housing Authority | 435 Nebraska Avenue P.O. Box 477 | Toledo | OH | 43604-9587 | 264,338.00
Allen Metropolitan Housing Authority | 600 S Main St | Lima | OH | 45804-1242 | 43,500.00
Geauga Metropolitan Housing Authority | 385 Center Street—Office | Chardon | OH | 44024-1155 | 67,151.00
Cincinnati Metropolitan Housing Authority | 1627 Western Avenue | Cincinnati | OH | 45214-2001 | 364,652.00
Wayne Metropolitan Housing Authority | 345 North Market Street | Wooster | OH | 44691-3566 | 45,514.00
The City of Marietta, Ohio/PHA | 301 Putnam Street | Marietta | OH | 45750 | 48,000.00
Logan County Metropolitan Housing Authority | 116 North Everett Street | Bellefontaine | OH | 43311-1132 | 47,638.00
Trumbull Metropolitan Housing Authority | 4076 Youngstown Road, SE | Warren | OH | 44484-3397 | 119,097.00
Columbus Metropolitan Housing Authority | 880 E 11th Ave | Columbus | OH | 43211-2771 | 155,602.00
Dayton Metropolitan Housing Authority | 400 Wayne Avenue | Dayton | OH | 45410-1118 | 181,721.00
Springfield Metropolitan Housing Authority | 101 West High Street | Springfield | OH | 45502-1219 | 72,000.00
Adams Metropolitan Housing Authority | 401 E Seventh Street | Manchester | OH | 45144-1401 | 52,456.00
Housing Authority of the City of Shawnee, OK | 601 W. Seventh Street P.O. Box 3427 | Shawnee | OK | 74802-3427 | 136,979.00
Housing Authority of the City of Norman | 700 North Berry Road | Norman | OK | 73069-7562 | 50,935.00
Oklahoma Housing Finance Agency | 100 NW 63rd ST Suite 200 | Oklahoma City | OK | 73116-8208 | 213,207.00
Housing Authority of the City of Muskogee | P.O. Box 1471 220 North 40th | Muskogee | OK | 74402-1471 | 50,540.00
Oklahoma City Housing Authority | 1700 Northeast Fourth Street Resident Services | Oklahoma City | OK | 73117-3800 | 50,794.00
Housing Authority of the City of Stillwater | 807 S Lowry | Stillwater | OK | 74074-4742 | 52,589.00
Housing Authority of the City of Tulsa | 415 E Independence St | Tulsa | OK | 74106-5727 | 95,600.00
Linn-Benton Housing Authority | 1250 Queen Avenue SE | Albany | OR | 97322-6661 | 144,000.00
Housing Authority of the City of Salem | 360 Church Street SE | Salem | OR | 97301-3707 | 297,420.00
Central Oregon Regional Housing Authority | 405 SW 6th Street | Redmond | OR | 97756-2204 | 149,033.00
Housing Authority of Jackson County | 2251 Table Rock Rd | Medford | OR | 97501-1409 | 143,398.00
Housing Authority of Yamhill County | 135 NE Dunn Pl | McMinnville | OR | 97128-9081 | 236,683.00
Housing and Community Services Agency of Lane County | 177 Day Island Road Supportive Housing Division | Eugene | OR | 97401-7911 | 228,821.00
Northeast Oregon Housing Authority | 2608 May Lane P.O. Box 3357 | La Grande | OR | 97850-7357 | 105,493.00
Home Forward | 135 SW Ash Street FSS/GOALS | Portland | OR | 97204-3540 | 570,179.00
Housing Authority of Washington County | 111 NE Lincoln Street | Hillsboro | OR | 97124-3036 | 137,316.00
Columbia Gorge Housing Authority | 500 E 2nd St | The Dalles | OR | 97058 | 61,147.00
Mid-Columbia Housing Authority | 500 E 2nd St | The Dalles | OR | 97058 | 61,147.00
Housing Authority of Clackamas County | P.O. Box 1510 13930 S Gain Street | Oregon City | OR | 97045-510 | 129,468.00
Housing Authority & Urban Renewal Agency of Polk County | 204 SW Walnut Avenue | Dallas | OR | 97338-1428 | 72,000.00
Northwest Oregon Housing Authority | P.O. Box 1149 147 South Main Avenue | Warrenton | OR | 97146-1149 | 45,761.00
Housing Authority of the City of Easton | 157 South Fourth St | Easton | PA | 18042-876 | 50,000.00
Housing Authority of the County of Cumberland | 114 N. Hanover St. HCV & FPH | Carlisle | PA | 17013-2445 | 48,718.00
Housing Authority of the County of Chester | 30 West Barnard Street Suite 2 | West Chester | PA | 19382-1000 | 55,000.00
Housing Authority of the County of Dauphin | 501 Mohn Street | Steelton | PA | 17113-7598 | 62,000.00
Housing Authority of Northumberland County | 50 Mahoning Street | Milton | PA | 17847-1016 | 64,458.00
Adams County Housing Authority | 40 E High ST | Gettysburg | PA | 17325-2316 | 48,639.00
Westmoreland County Housing Authority | 167 S Greengate Road | Greensburg | PA | 15601-6392 | 239,093.00
Housing Authority of Centre County | 602 E Howard St HCV | Bellefonte | PA | 16823-2145 | 57,299.00
Lehigh County Housing Authority | 333 Ridge Street | Emmaus | PA | 18032-3722 | 56,000.00
Lycoming County Housing Authority | 1941 Lincoln Drive | Williamsport | PA | 17701-2824 | 20,355.00
Allegheny County Housing Authority | 625 Stanwix Street—12th Floor | Pittsburgh | PA | 15222-1418 | 193,809.00
Housing Authority of Indiana County | 104 Philadelphia Street | Indiana | PA | 15701-2132 | 39,589.00
Philadelphia Housing Authority | 2013 Ridge Avenue Planning & Development | Philadelphia | PA | 19121-4113 | 370,000.00
Housing Authority of the County of Clarion (INC) | 8 West Main Street | Clarion | PA | 16214-1816 | 84,901.00
Housing Authority of the County of Butler | 114 Woody Drive | Butler | PA | 16001-5692 | 55,587.00
Altoona Housing Authority | 2700 Pleasant Valley Boulevard | Altoona | PA | 16602-4492 | 54,000.00
Montgomery County Housing Authority | 104 W. Main Street Suite #1 | Norristown | PA | 19401-4716 | 64,203.00
Housing Authority of the City of Pittsburgh | 200 Ross Street 9th Floor | Pittsburgh | PA | 15219-210 | 377,268.00
The Housing Authority of the County of Franklin | 436 W Washington St | Chambersburg | PA | 17201-2458 | 22,200.00
Housing Authority of the County of Union | 1610 Industrial Blvd Suite 400 | Lewisburg | PA | 17837-1284 | 48,500.00
Housing Authority of the City of York | 31 S Broad St | York | PA | 17403 | 69,380.00
Municipality of Juana Diaz | #35 Degetau Street Section 8 Programs | JUANA DIAZ | RQ | 795-1409 | 24,680.00
Municipality of San German | Ave. Universidad Interamericana #136 | San German | RQ | 0-683 | 56,816.00
Municipality of San Juan | P.O. Box 70179 Section 8 | San Juan | RQ | 936-8179 | 25,387.00
Municipality of Bayamon | P.O. Box 1588 Section 8 Program | Bayamon | RQ | 960-1588 | 28,324.00
Municipality of Ponce | P.O. Box 3117069 Section 8 Program | Ponce | RQ | 733-1709 | 15,040.00
Town of Cumberland Housing Authority | 573 Mendon Rd. Suite 4 | Cumberland | RI | 2864-6200 | 74,811.00
Central Falls Housing Authority | 30 Washington Street | Central Falls | RI | 2863-2842 | 71,106.00
Narragansett Housing Authority | 25 Fifth Avenue Family Self-Sufficiency Prog. | Narragansett | RI | 2882-3612 | 76,274.00
Warwick Housing Authority | 1035 West Shore Road | Warwick | RI | 2889-3417 | 43,296.00
Town of Coventry Housing Authority | 14 Manchester Circle | Coventry | RI | 2816-8827 | 61,049.00
Town of North Providence Housing Authority | 945 Charles Street North Providence HA | North Providence | RI | 2904-5647 | 20,043.00
The Housing Authority of the City of Providence | 100 Broad Street, 2nd Floor | Providence | RI | 2903-4167 | 219,863.00
East Providence Housing Authority | 99 Goldsmith Avenue East Providence Housing | E Providence | RI | 2914-2221 | 66,980.00
Housing Authority of the Town of East Greenwich | 146 First Avenue FSS | East Greenwich | RI | 2818-3663 | 65,473.00
Rhode Island Housing and Mortgage Finance Corporation | 44 Washington Street Leased Housing | Providence | RI | 2903-1721 | 208,397.00
Housing Authority of the City of Pawtucket | 214 Roosevelt Ave | Pawtucket | RI | 2860-2153 | 152,547.00
Housing Authority of the City of Spartanburg | 2271 South Pine Street | Spartanburg | SC | 29302-4339 | 69,531.00
Housing Authority of Myrtle Beach | 605 10th Avenue North P.O. Box 2468 | Myrtle Beach | SC | 29568-2468 | 68,680.00
The Housing Authority City of Charleston | 550 Meeting Street Housing Choice Voucher | Charleston | SC | 29403-5068 | 61,416.00
Charleston County Housing and Redevelopment Authority | 2106 Mount Pleasant Street | Charleston | SC | 29403 | 67,906.00
Beaufort Housing Authority | Post Office Box 1104 | Beaufort | SC | 29901-1104 | 51,804.00
North Charleston Housing Authority | 6327 Rivers Ave | North Charleston | SC | 29406-4850 | 59,677.00
Housing Authority of the City of Columbia, SC | 1917 Harden Street | Columbia | SC | 29204-1015 | 109,821.00
Housing Authority of Greenville | 122 Edinburgh Court | Greenville | SC | 29607 | 110,000.00
Brookings County Housing & Redevelopment Commission | 1310 S Main Ave Suite #106 | Brookings | SD | 57006-432 | 37,966.00
Mobridge Housing & Redevelopment Commission | 202 1ST Ave East | Mobridge | SD | 57601-370 | 34,233.00
Sioux Falls Housing and Redevelopment Commission | 630 S Minnesota Ave | Sioux Falls | SD | 57104-4825 | 90,048.00
East Tennessee Human Resource Agency, Inc | 9111 Cross Park Drive Suite D-100 | Knoxville | TN | 37923-4517 | 33,883.00
Shelbyville Housing Authority | 316 Templeton Street | Shelbyville | TN | 37160-3295 | 57,269.00
Franklin Housing Authority | 200 Spring Street | Franklin | TN | 37064-3311 | 59,626.00
Knoxville's Community Development Corporation | 901 N. Broadway P.O. Box 3550 | Knoxville | TN | 37927-6663 | 57,202.00
Kingsport Housing & Redevelopment Authority | 906 E Sevier Ave | Kingsport | TN | 37660-44 | 107,982.00
Tennessee Housing Development Agency | 502 Deaderick Street 3rd Floor Rental Assistance Division | Nashville | TN | 37243-900 | 307,605.00
Town of Crossville Housing Authority | P.O Box 425 | Crossville | TN | 38557-425 | 54,158.00
Chattanooga Housing Authority | 801 N Holtzclaw Avenue | Chattanooga | TN | 37404-1236 | 72,000.00
Oak Ridge Housing Authority | 10 Van Hicks Road | Oak Ridge | TN | 37830-4969 | 39,809.00
Metropolitan Development and Housing Agency | 701 South Sixth Street Social Services Division | Nashville | TN | 37206-3809 | 281,022.00
Jackson Housing Authority | 125 Preston Street | Jackson | TN | 38301-4888 | 217,699.00
Memphis Housing Authority | 700 Adams Ave | Memphis | TN | 38105-5029 | 66,744.00
Brazos Valley Council of Governments | P.O. Drawer 4128 Family Self-Sufficiency | Bryan | TX | 77802-4128 | 395,640.00
Housing Authority of San Angelo | 420 E 28th St Family Self-Sufficiency | San Angelo | TX | 76903-2455 | 80,000.00
Housing Authority of the City of Brownsville | 2606 Boca Chica Blvd | Brownsville | TX | 78521-2312 | 166,978.00
Housing Authority of the City of Fort Worth | 1201 E 13TH Street | Fort Worth | TX | 76102-5794 | 360,000.00
Deep East Texas Council of Governments | 210 Premier Drive Family Self-Sufficiency Program | Jasper | TX | 75951-7495 | 72,000.00
Galveston Housing Authority | 4700 Broadway | Galveston | TX | 77551-4241 | 72,000.00
City of Tyler Housing Agency | 900 W Gentry Pkwy Housing Choice Voucher | Tyler | TX | 75702-5521 | 58,563.00
Housing Authority of the City of Wichita Falls | 501 Webster Street | Wichita Falls | TX | 76306-2954 | 56,216.00
County of Dallas | 2377 North Stemmons Freeway, Suite 600 Dallas County Housing Agency | Dallas | TX | 75207-2710 | 71,906.00
Housing Authority of the City of Waco | 4400 Cobbs Dr. P.O. Box 978 | Waco | TX | 76703-978 | 117,537.00
Robstown Housing Authority | 625 West Ave F | Robstown | TX | 78380-2540 | 39,677.00
McAllen Housing Authority | 2301 Jasmine Ave | McAllen | TX | 78501-7496 | 45,850.00
City of Garland Housing Agency | 210 Carver St.; Ste 201B | Garland | TX | 75040 | 59,553.00
Housing Authority of the City of Pharr | 104 W Polk Ave | Pharr | TX | 78577-3023 | 45,976.00
San Marcos Housing Authority | 1201 Thorpe Lane | San Marcos | TX | 78666-6565 | 119,312.00
Housing Authority of the County of Hidalgo | 1800 N. Texas Blvd. Family Self-Sufficiency | Weslaco | TX | 78599-4034 | 95,775.00
Mission Housing Authority of the City of Mission | 1300 East 8th ST. Operations | Mission | TX | 78572-5817 | 54,456.00
Houston Housing Authority | 2640 Fountain View Dr | Houston | TX | 77057-7610 | 393,387.00
Tarrant County Housing Assistance Office | 2100 Circle Drive | Fort Worth | TX | 76119-8130 | 217,537.00
The Housing Authority of the City of Lubbock | 1708 Crickets Ave Family Self-Sufficiency | Lubbock | TX | 79401-5127 | 46,348.00
Housing Authority of the City of Kingsville | 1000 W Corral Avenue | Kingsville | TX | 78363—3035 | 56,996.00
Montgomery County Housing Authority | 1500 North Frazier Suite 101 Family Self -Sufficiency | Conroe | TX | 77301-2220 | 42,762.00
Housing Authority of the City of Austin | 1124 S IH-35 Special Programs & Intake | Austin | TX | 78704-2614 | 294,750.00
Housing Authority of the City of El Paso | 5300 E Paisano Housing Programs | El Paso | TX | 79905-2931 | 116,859.00
Midland County Housing Authority | 1710 Edwards | Midland | TX | 79701-2313 | 45,000.00
City of Longview, TX | P.O. Box 1952 Housing | Longview | TX | 75606-1952 | 56,276.00
Housing Authority of the City of Arlington | 501 W Sanford Street Suite 20 | Arlington | TX | 76011-7090 | 190,127.00
The Housing Authority of the City of Dallas, Texas | 3939 North Hampton Road | Dallas | TX | 75212-1630 | 784,491.00
Texoma Council of Governments | 1117 Gallagher Dr | Sherman | TX | 75090-3107 | 144,000.00
Housing Authority of the City of Abilene | 1149 E South 11th Street FSS | Abilene | TX | 79602-3701 | 55,397.00
Walker County Housing Authority | 340 Hwy. 75 N, Ste. E | Huntsville | TX | 77320-3176 | 45,450.00
Housing Authority of the City of Beaumont | 1890 Laurel | Beaumont | TX | 77701-1396 | 98,522.00
Housing Authority of Bexar County | 1954 E Houston Street | San Antonio | TX | 78202 | 192,149.00
San Antonio Housing Authority | 818 S Flores Street | San Antonio | TX | 78204 | 939,989.00
Housing Authority of Salk Lake City | 1776 S West Temple | Salt Lake City | UT | 84115-1816 | 101,804.00
Provo City Housing Authority | 688 West 100 North | Provo | UT | 84601-2632 | 72,000.00
Tooele County Housing Authority | 66 West Vine | Tooele | UT | 84029-2194 | 52,955.00
Davis Community Housing Authority | 352 South 200 West, Suite 1 | Farmington | UT | 84025-2423 | 60,178.00
Housing Authority of Utah County | 240 E Center Street | Provo | UT | 84606-3162 | 53,539.00
Housing Authority of the City of Ogden | 1100 Grant Avenue | Ogden | UT | 84404-4931 | 59,679.00
Housing Authority of the County of Salt Lake | 3595 South Main Street | Salt Lake City | UT | 84115-4434 | 230,519.00
Burlington Housing Authority | 65 Main Street | Burlington | VT | 5401-8408 | 118,951.00
Brattleboro Housing Authority | P.O. Box 2275 | W. Brattleboro | VT | 5303 | 70,168.00
Vermont State Housing Authority | 1 Prospect Street Self-Sufficiency Programs | Montpelier | VT | 5602-3556 | 261,814.00
Virgin Islands Housing Authority | 9900 Oswald Harris Court #1 Estate Thomas | St. Thomas | VQ | 802-3100 | 69,380.00
Danville Redevelopment and Housing Authority | 135 Jones Crossing Community Relations | Danville | VA | 24541-2245 | 24,818.00
City of Roanoke Redevelopment and Housing Authority | 2624 Salem Turnpike | Roanoke | VA | 24017-5443 | 151,470.00
Newport News Redevelopment and Housing Authority | 227 27th Street Community Resources Division | Newport News | VA | 23607-797 | 168,751.00
Hampton Redevelopment and Housing Authority | 1 Franklin Street Suite 603 HCV-FSS | Hampton | VA | 23669-280 | 60,387.00
Norfolk Redevelopment and Housing Authority | 555 E Main Street Housing Operations | Norfolk | VA | 23510-1820 | 360,000.00
Prince William County OHCD | 15941 Donald Curtis Drive Suite 112 | Woodbridge | VA | 22191-4256 | 72,000.00
Harrisonburg Redevelopment and Housing Authority | 286 Kelley Street | Harrisonburg | VA | 22802-4721 | 35,338.00
County of Loudoun | P.O. Box 7400 HCV | Leesburg | VA | 20177-7400 | 74,315.00
Fairfax County Redevelopment and Housing Authority | 3700 Pender Drive Suite 100 | Fairfax | VA | 22030-6039 | 152,256.00
City of VA Beach Dept. of Housing & Neighborhood Pres | 2424 Courthouse Drive Building 18A | Virginia Beach | VA | 23456-9083 | 56,582.00
James City County Housing | 5320 Palmer Lane, Suite 1A Office of Housing | Williamsburg | VA | 23188-2674 | 26,500.00
Richmond Redevelopment and Housing Authority | 901 Chamberlayne Parkway | Richmond | VA | 23220-6887 | 72,000.00
Bristol Redevelopment and Housing Authority | 809 Edmond Street Resident Services | Bristol | VA | 24201-4385 | 49,862.00
Portsmouth Redevelopment Development and Housing Authority | 3116 South St Resident Services | Portsmouth | VA | 23707-4116 | 227,594.00
Alexandria Redevelopment and Housing Authority | 401 Wythe St Family Self-Sufficiency | Alexandria | VA | 22314 | 78,894.00
Waynesboro Redevelopment and Housing Authority | 1700 New Hope Road P.O. Box 1138 | Waynesboro | VA | 22980-821 | 97,744.00
Chesapeake Redevelopment & Housing Authority | 1468 South Military Highway | Chesapeake | VA | 23320-2604 | 167,440.00
Suffolk Redevelopment and Housing Authority | 530 Pinner Street | Suffolk | VA | 23434-3023 | 104,736.00
Pierce County Housing Authority | 1525 108th Street South Family Self Sufficiency | Tacoma | WA | 98444-2614 | 138,000.00
Housing Opportunities of SW WA (Longview Housing Authority) | 820 11th Ave FSS Program | Longview | WA | 98632-2402 | 98,856.00
Housing Authority of the City of Tacoma | 902 South L Street Family Self-Sufficiency | Tacoma | WA | 98405-4037 | 197,662.00
City of Kelso Housing Authority | 1415 10th Avenue | Kelso | WA | 98626-2729 | 69,688.00
King County Housing Authority | 600 Andover Park West Resident Services | Tukwila | WA | 98188-3326 | 368,079.00
Housing Authority of Chelan County and the City of Wenatchee | 1555 S. Methow | Wenatchee | WA | 98801-9417 | 49,178.00
Housing Authority of Skagit County | 1650 Port Dr | Burlington | WA | 98233-3106 | 58,791.00
Peninsula Housing Authority | 2603 S Francis Street | Port Angeles | WA | 98362-6710 | 94,170.00
Housing Authority of Island County | 7 NW 6th Street | Coupeville | WA | 98239-3400 | 58,163.00
Housing Authority of the City of Pasco and Franklin County | 2505 W Lewis St | Pasco | WA | 99301-4569 | 50,160.00
Housing Authority of Thurston County | 1206 12th Ave. SE Housing Stability Division | Olympia | WA | 98501-2351 | 147,680.00
Housing Authority of the City of Vancouver | 2500 Main St. Suite 100 | Vancouver | WA | 98660-2676 | 215,767.00
Seattle Housing Authority | 190 Queen Anne Ave N P.O. Box 19028 | Seattle | WA | 98109-1028 | 457,643.00
Housing Authority of the City of Yakima | 810 N 6th Avenue | Yakima | WA | 98902-1474 | 129,755.00
The Housing Authority of the City Bremerton | 600 Park Ave | Bremerton | WV | 98337-1544 | 67,927.00
Clarksburg-Harrison Regional Housing Authority | 433 Baltimore Ave | Clarksburg | WV | 26301-2053 | 43,498.00
Benwood-McMechen Housing Authority | 2200 Marshall Street | Benwood | WV | 26031-1323 | 18,104.00
The Fairmont-Morgantown Housing Authority | P.O. Box 2738 103 12th Street | Fairmont | WV | 26555-2738 | 30,186.00
Wheeling Housing Authority | P.O. Box 2089 11 Community Street | Wheeling | WV | 26003-5201 | 56,138.00
Housing Authority of Mingo County | 5026 Helena Avenue | Delbarton | WV | 25670-120 | 69,000.00
Parkersburg Housing Authority | 1901 Cameron Ave | Parkersburg | WV | 26101-9316 | 47,419.00
Charleston-Kanawha Housing Authority | 1525 Washington Street West | Charleston | WV | 25387 | 91,019.00
Randolph County Housing Authority | 2280 Randolph Avenue | Elkins | WV | 26241-1579 | 26,486.00
Dane County Housing Authority | 6000 Gisholt Drive, #203 | Monona | WI | 53713-3707 | 49,124.00
Winnebago County Housing Authority | 600 Merritt Avenue | Oshkosh | WI | 54901-5178 | 72,000.00
Brown County Housing Authority | 305 E Walnut St Room 320 P.O. Box 23600 | Green Bay | WI | 54305-3600 | 90,308.00
City of Kenosha Housing Authority | 625 52nd Street, RM 98 | Kenosha | WI | 53140-3480 | 72,000.00
Dunn County Housing Authority | 1421 Stout Rd | Menomonie | WI | 54751 | 20,750.00
Beloit Community Development Authority | 100 State Street Beloit Housing Authority | Beloit | WI | 53511-6234 | 72,000.00
Housing Authority of the City of Milwaukee | P.O. Box 324 | Milwaukee | WI | 53201-324 | 151,474.00
Housing Authority of Racine County | 837 Main Street | Racine | WI | 53403-1522 | 72,000.00
Appleton Housing Authority | 925 W Northland Ave | Appleton | WI | 54914-1422 | 57,500.00
Total |  |  |  |  | 79,549,276.00

Appendix D

FY2019 Resident Opportunity & Self Sufficiency Service Coordinator (ROSS-SC) Grant Program (FR-6300-FA-05)

Contact: Tremayne Youmans (202) 402-6621.

Legal name | Address | City | State | Zip code | Total recommended amount
Huntsville Housing Authority | 200 Washington Street | Huntsville | AL | 35804 | $ 478,500.00
Housing Authority of Birmingham District | 1826 3rd Avenue S | Birmingham | AL | 35233 | 717,750.00
Catholic Community Service | 1803 Glacier Highway | Juneau | AK | 99801 | 222,651.00
Aleut Community of St. Paul Island Tribal Government | P.O. Box 86 | St. Paul Island | AK | 99660 | 237,850.00
Baranof Island Housing Authority | 245 Katlian Street N/A | Sitka | AK | 99835 | 239,250.00
Tagiugmiullu Nunamiullu Housing Authority | P.O. Box 409 | Utqiagvik | AK | 99723 | 239,250.00
Navajo Housing Authority | P.O. Box 4980 | Window Rock | AZ | 86515 | 717,750.00
City of Tucson | 310 N. Commerce Park Loop, P.O. Box 27210 | Tucson | AZ | 85726 | 239,250.00
City of Glendale Housing Authority | 6842 N 61st Avenue, Housing | Glendale | AZ | 85301 | 239,250.00
Hoopa Valley Housing Authority | P.O. Box 1285 | Hoopa | CA | 95546 | 239,250.00
Housing Authority of the County of San Joaquin | 2575 Grand Canal Blvd | Stockton | CA | 95207 | 239,250.00
Cahto Tribe of the Laytonville Rancheria | 300 Cahto Drive, P.O. Box 1239 | Laytonville | CA | 95454 | 176,100.00
Housing Authority of the County of Sacramento | 801 12th Street | Sacramento | CA | 95814 | 239,250.00
Housing Authority of the County of Stanislaus | 1701 Robertson Road, P.O. Box 581918 | Modesto | CA | 95358 | 237,600.00
Thomas Bean Local Resident Council | 2350 Cleveland Place, Local Resident Council | Denver | CO | 80205 | 219,868.00
North Lincoln Homes Local Resident Council | 1401 Mariposa Street, Local Resident Council | Denver | CO | 80204 | 216,105.00
Barney Ford Local Resident Council | 2024 Clarkson Street, Local Resident Council | Denver | CO | 80205 | 228,879.00
Callahan House Association | 32 Smith St., Apt 4M | Seymour | CT | 06483 | 239,250.00
West Haven Housing Authority dba Savin Rock Communities | 15 Glade Street | West Haven | CT | 06516 | 239,250.00
Housing Authority of the City of New Haven | 360 Orange Street | New Haven | CT | 06511 | 235,065.00
Wilmington Housing Authority | 400 N Walnut Street | Wilmington | DE | 19801 | 239,250.00
Housing Authority of the City of Winter Park | 718 Margaret Square | Winter Park | FL | 32789 | 239,250.00
Jacksonville Housing Authority (JHA) | 1300 Broad Street, North Resident Services | Jacksonville | FL | 32202 | 437,214.00
The Housing Authority of the City of Fort Myers | 4224 Renaissance Preserve Way | Fort Myers | FL | 33916 | 236,691.00
Ocala Housing Authority | 1629 North West 4th Street | Ocala | FL | 34475 | 239,250.00
Housing Authority of The City of College Park, Georgia | 2000 Princeton Avenue, Housing Assistance | College Park | GA | 30337 | 239,250.00
Housing Authority of the City of Gainesville | 750 Pearl Nix Parkway | Gainesville | GA | 30501 | 236,500.00
Dublin Housing Authority | 500 West Mary Street, P.O. Box 36 | Dublin | GA | 31040 | 239,250.00
Housing Authority of the City of Calhoun, Georgia | 607 Oothcalooga Street | Calhoun | GA | 30701 | 239,250.00
Guam Housing and Urban Renewal Authority | 117 Bien Venida Ave | Sinajana | GQ | 96910 | 175,636.00
Coeur d'Alene Tribal Housing Authority | 1005 8th Street, P.O. Box 267 | Plummer | ID | 83851 | 201,282.00
Boise City Housing Authority | 1001 S. Orchard St | Boise | ID | 83705 | 216,168.00
Housing Authority of Henry County | 125 North Chestnut Street | Kewanee | IL | 61443 | 186,725.00
Springfield Housing Authority | 200 North Eleventh Street | Springfield | IL | 62703 | 190,349.00
Winnebago County Housing Authority | 3617 Delaware Street | Rockford | IL | 61102 | 239,250.00
Holsten Human Capital Development NFP | 1034 W Montrose Ave | Chicago | IL | 60613 | 239,250.00
Peoria Housing Authority | 100 S Richard Pryor Place, Supportive Services | Peoria | IL | 61605 | 233,801.00
Lake County Housing Authority | 33928 North Route 45 | Grayslake | IL | 60030 | 239,250.00
Jackson County Housing Authority | 300 North 7th Street, P.O. Box 1209 | Murphysboro | IL | 62966 | 174,196.00
Housing Authority of the City of East St. Louis | 700 North 20th Street ROSS | East St. Louis | IL | 62205 | 473,569.00
Lawrence-Douglas County Housing Authority | 1600 Haskell Avenue | Lawrence | KS | 66044 | 206,250.00
Housing Authority of Lebanon | 101 Hamilton Heights | Lebanon | KY | 40033 | 239,250.00
Campbellsville Housing & Redevelopment Authority | 400 Ingram Ave. ROSS Service Coordinator | Campbellsville | KY | 42718 | 239,250.00
Lexington-Fayette Urban County Housing Authority | 300 West New Circle Road | Lexington | KY | 40505 | 205,214.00
Housing Authority of Danville | 1014 Rosemont Avenue, P.O. Box 666 | Danville | KY | 40423 | 168,850.00
Lafayette Housing Authority | 115 Kattie Drive | Lafayette | LA | 70501 | 239,250.00
Housing Authority of East Baton Rouge Parish | 4731 North Boulevard | Baton Rouge | LA | 70808 | 163,766.00
Ellsworth Housing Authority | P.O. Box 28, 80 Mount Desert Street | Bar Harbor | ME | 04609 | 197,708.00
Housing Authority of the City of Brewer | 15 Colonial Circle, Suite 1 | Brewer | ME | 04412 | 206,250.00
Housing Authority of the City of Bangor | 161 Davis Rd | Bangor | ME | 04401 | 235,306.00
Housing Authority of the City of Annapolis | 1217 Madison Street | Annapolis | MD | 21403 | 239,250.00
Glenarden Housing Authority | 8639 Glenarden Parkway | Glenarden | MD | 20706 | 231,000.00
Housing Authority of Baltimore | 417 E. Fayette Street | Baltimore | MD | 21202 | 478,315.00
Framingham Housing Authority | 1 John J Brady Drive, Public Housing | Framingham | MA | 01702 | 239,250.00
Springfield Housing Authority | P.O. Box 1609, 60 Congress Street | Springfield | MA | 01101 | 239,250.00
Holyoke Housing Authority | 475 Maple Street, Suite One | Holyoke | MA | 01040 | 239,250.00
Somerville Housing Authority | 30 Memorial Road | Somerville | MA | 02145 | 237,600.00
Boston Housing Authority | 52 Chauncy Street CCECR | Boston | MA | 02111 | 475,200.00
Lowell Housing Authority | 350 Moody Street, P.O. Box 60 | Lowell | MA | 01853 | 239,250.00
Malden Housing Authority | 630 Salem Street | Malden | MA | 02148 | 239,250.00
Port Huron Housing Commission | 905 Seventh Street | Port Huron | MI | 48060 | 126,732.00
Ferndale Housing Commission | 415 Withington Street | Ferndale | MI | 48220 | 206,250.00
Flint Housing Commission | 3820 Richfield Road | Flint | MI | 48506 | 239,250.00
Housing Authority of the City of Canton | 120 Faith Lane | Canton | MS | 39046 | 199,657.00
St. Louis Housing Authority | 3520 Page Boulevard, Development | St. Louis | MO | 63106 | 468,600.00
Salish & Kootenai Housing Authority | P.O. Box 38 | Pablo | MT | 59855 | 173,775.00
Fort Belknap Housing Authority | 668 Agency Main St. | Harlem | MT | 59526 | 197,695.00
Blackfeet Housing Program dba Blackfeet Housing Authority | P.O. Box 449 | Browning | MT | 59417 | 162,657.00
Crow Tribal Housing Authority | 245 Weaver Street | Crow Agency | MT | 59022 | 205,590.00
Kearney Housing Authority | P.O. Box 1236 2715 Avenue I | Kearney | NE | 68848 | 202,500.00
Housing Authority of the City of Omaha | 1823 Harney Street, Resident Opportunity and Self | Omaha | NE | 68102 | 717,750.00
Housing Authority of the County of Scottsbluff | 89A Woodley Park Road | Gering | NE | 69341 | 239,250.00
Proventus Place | 112 S Water Street | Henderson | NV | 89015 | 210,599.00
Southern Nevada Regional Housing Authority | 340 N 11th Snrha ROSS—SC | Las Vegas, | NV | 89101 | 239,250.00
North Bergen Housing Authority | 6121 Grand Avenue | North Bergen | NJ | 07047 | 239,250.00
Atlantic City Housing & Redevelopment Agency | 227 North Vermont Avenue, 17th Floor | Atlantic City | NJ | 08401 | 235,529.00
Housing Authority of the City of Newark | 500 Broad Street | Newark | NJ | 07102 | 478,500.00
Housing Authority of the City of Camden | 2021 Watson Street, Suite 211 | Camden | NJ | 08105 | 190,748.00
Zuni Housing Authority | P.O. Box 710 | Zuni | NM | 87327 | 113,388.00
Ithaca Housing Authority | 800 S. Plain Street | Ithaca | NY | 14850 | 239,250.00
Syracuse Housing Authority | 516 Burt Street | Syracuse | NY | 13202 | 478,500.00
Binghamton Housing Authority | 35 Exchange Street | Binghamton | NY | 13901 | 237,000.00
Municipal Housing Authority of the City of Utica, New York | 509 Second Street, Suite One | Utica | NY | 13501 | 239,250.00
Akwesasne Housing Authority | 378 State Route 37, Suite A | Hogansburg | NY | 13655 | 199,768.00
New York City Housing Authority | 250 Broadway Office of the EVP | New York | NY | 10007 | 717,750.00
Roxboro Housing Authority | 500 Mt. Bethel Church Street, P.O. Box 996 | Roxboro | NC | 27573 | 222,519.00
Fayetteville Metropolitan Housing Authority | 1000 Ramsey Street | Fayetteville | NC | 28302 | 226,950.00
Monroe Housing Authority | 504 Hough Street | Monroe | NC | 28112 | 239,250.00
Robeson County Housing Authority | 100 Oxendine Circle | Lumberton | NC | 28360 | 239,250.00
Housing Authority of the City of Goldsboro | 700 N Jefferson Ave | Goldsboro | NC | 27530 | 238,920.00
City of Concord Housing Department | 283 Harold Goodman Circle SW | Concord | NC | 28025 | 228,450.00
Portage Metropolitan Housing Authority | 2832 State Route 59 | Ravenna | OH | 44266 | 227,095.00
Cuyahoga Metropolitan Housing Authority | 8120 Kinsman | Cleveland | OH | 44104 | 698,265.00
Springfield Metropolitan Housing Authority | 101 West High Street | Springfield | OH | 45502 | 226,370.00
Dayton Metropolitan Housing Authority | 400 Wayne Avenue | Dayton | OH | 45410 | 478,500.00
Warm Springs Housing Authority | P.O. Box 1167 | Warm Springs | OR | 97761 | 138,273.00
Homes for Good | 177 Day Island Road, Supportive Housing Division | Eugene | OR | 97405 | 235,950.00
Housing Authority of the County of Chester | 30 W Barnard Street, Suite 2 | West Chester | PA | 19382 | 222,750.00
Housing Authority of the County of Beaver | 300 State Avenue | Beaver | PA | 15009 | 476,131.00
Housing Authority of the County of Armstrong | 350 S. Jefferson Street | Kittanning | PA | 16201 | 202,275.00
Montgomery County Housing Authority | 104 W. Main Street, Suite #1 | Norristown | PA | 19401 | 238,759.00
Allentown Housing Authority | 1339 West Allen Street Social Services | Allentown | PA | 18102 | 189,657.00
Bradford County Housing Authority | 112 Dorsett Heights | Bradford | PA | 16933 | 239,250.00
Housing Authority of the City of Erie | 606 Holland Street | Erie | PA | 16501 | 182,153.00
Tioga County Housing Authority | 112 Dorsett Heights | Mansfield | PA | 16933 | 239,250.00
Blueprints | 150 West Beau Street, Suite 304 | Washington | PA | 15301 | 170,352.00
Blueprints | 150 West Beau Street, Suite 304 | Washington | PA | 15301 | 170,352.00
Housing Authority of the County of Jefferson | 201 N. Jefferson St | Punxsutawney | PA | 15767 | 135,749.00
Philadelphia Housing Authority | 2013 Ridge Avenue, Resident Programs and Partners | Philadelphia | PA | 19121 | 407,198.00
The Housing Authority of the County of Franklin | 436 West Washington Street | Chambersburg | PA | 17201 | 115,000.00
Lancaster City Housing Authority | 325 Church Street | Lancaster | PA | 17602 | 239,250.00
Housing Authority of Cheraw | 1343 Dizzy Gillespie Drive | Cheraw | SC | 29520 | 169,791.00
Rock Hill Housing Authority | 467 S. Wilson Street | Rock Hill | SC | 29730 | 239,250.00
South Carolina Regional Housing Authority #3 | 10938 Ellenton Street | Barnwell | SC | 29812 | 239,250.00
Southeastern Housing and Community Development | 10938 Ellenton Street, P.O. Box 1326 | Barnwell | SC | 29812 | 239,250.00
Southeastern Housing and Community Development | 10938 Ellenton Street, P.O. Box 1326 | Barnwell | SC | 29812 | 239,250.00
Oglala Sioux (Lakota) Housing | 4 SuAnne Center Drive | Pine Ridge | SD | 57770 | 445,500.00
Franklin Housing Authority | 200 Spring Street | Franklin | TN | 37064 | 212,683.00
Chattanooga Housing Authority | 801 North Holtzclaw Avenue | Chattanooga | TN | 37404 | 478,500.00
Maryville Housing Authority | 311 Atlantic Avenue | Maryville | TN | 37801 | 196,971.00
Newport Housing Authority Resident Advisory Council | 440 Lennon Circle | Newport | TN | 37821 | 237,600.00
Robstown Housing Authority | 625 West Ave F | Robstown | TX | 78380 | 239,250.00
Housing Authority of the City of Wichita Falls | 501 Webster | Wichita Falls | TX | 76306 | 223,266.00
Housing Authority of the City of Bryan | 1306 Beck St | Bryan | TX | 77803 | 223,136.00
Alice Housing Authority | 125 Olmito St, P.O. Box 1407 | Alice | TX | 78333 | 239,250.00
McKinney Housing Authority | 603 North Tennessee Street | McKinney | TX | 75069 | 239,250.00
The Housing Authority of the City of Dallas, Texas (DHA) | 3939 N. Hampton Rd | Dallas | TX | 75212 | 711,000.00
Hopewell Redevelopment and Housing Authority | 350 E Poythress St | Hopewell | VA | 23860 | 230,916.00
Norfolk Redevelopment and Housing Authority | 555 E. Main Street, Housing Operations | Norfolk | VA | 23510 | 478,500.00
Portsmouth Redevelopment and Housing Authority | 3116 South Street Resident Services | Portsmouth | VA | 23707 | 239,250.00
Bristol Redevelopment and Housing Authority | Bristol Redevelopment and Housing Authority, 809 Edmond Street | Bristol | VA | 24201 | 178,482.00
Richmond Redevelopment and Housing Authority | 1901 Chamberlayne Parkway I | Richmond | VA | 23220 | 717,750.00
Yakama Nation Housing Authority | 611 S. Camas Avenue, ROSS Grant | Wapato | WA | 98951 | 239,250.00
King County Housing Authority | 600 Andover Park, West Resident Services | Tukwila, | WA | 98188 | 239,250.00
Wheeling Housing Authority | P.O. Box 2089, 11 Community Street | Wheeling | WV | 26003 | 215,262.00
Appleton Housing Authority | 925 W. Northland Ave | Appleton | WI | 54914 | 234,300.00
Beloit Community Development Authority | 100 State Street, Beloit Housing Authority | Beloit | WI | 53511 | 195,000.00
Total |  |  |  |  | 36,843,021.00

Appendix E

FY2019 Jobs Plus Initiative (FR-6300-FA-14)

Contact: Jayme Brown (202) 402-3624.

Legal name | Address line | City | County | State | Zip | Amount grant funds
Los Angeles County Development Authority | 700 West Main Street | Alhambra |  | CA | 91801 | $1,854,077
Housing Authority of the City of Fort Myers | 4224 Renaissance Preserve Way | Fort Myers | Lee | FL | 33916 | 2,300,000
Jacksonville Housing Authority | 1300 Nth Broad Street | Jacksonville | Duval | FL | 32202 | 2,300,000
Chicago Housing Authority | 60 EastVan Buren | Chicago | Cook | IL | 60605 | 2,790,875
Lowell Housing Authority | 350 Moody St | Lowell | Middlesex | MA | 01853 | 2,300,000
The Housing Authority of the City of Durham | 330 East Main Street | Durham | Durham | NC | 27701 | 2,300,000
Housing Authority of the City of Elizabeth | 688 Maple Ave | Elizabeth | Union | NJ | 07202 | 2,300,000
Akron Metropolitan Housing Authority | 100 W. Cedar Street | Akron | Summit County | OH | 44307 | 2,300,000
Portsmouth Redevelopment and Housing Authority | 3116 South St | Portsmouth |  | VA | 23707 | 2,300,000
Total |  |  |  |  |  | 20,744,952

Appendix F

FY2019 and FY2020 Community Development Block Grant Program for Indian Tribes and Alaska Native Villages (ICDBG) (FR-6300-N-23)

Contact: Hilary Atkin (202) 402-3427.

Recipient | Address | City | State | Zip code | Amount
Akiak Native Community | P.O. Box 52165 | Akiak | AK | 99552 | $800,000
Circle Native Community | P.O. Box 89 | Circle | AK | 99773 | 800,000
Cook Inlet Tribal Council, Inc | 3600 San Jeronimo Drive | Anchorage | AK | 99508 | 800,000
Galena Village | P.O. Box 244 | Galena | AK | 99741-0244 | 800,000
Holy Cross Village Council | P.O. Box 89 | Holy Cross | AK | 99602 | 800,000
Knik Tribe | P.O. Box 871565 | Wasilla | AK | 99687-1565 | 800,000
Manokotak Village | P.O. Box 169 | Manokotak | AK | 99628 | 800,000
Mentasta Traditional Council | P.O. Box 6019 | Mentasta Lake | AK | 99780 | 800,000
Metlakatla Housing Authority | P.O. Box 59 | Metlakatla | AK | 99926-0059 | 730,000
Native Village of Barrow Inupiat Traditional Government | P.O. Box 1130 | Barrow | AK | 99723-1130 | 800,000
Native Village of Buckland | P.O. Box 67 | Buckland | AK | 99727 | 800,000
Native Village of Fort Yukon | P.O. Box 126 | Fort Yukon | AK | 99740-0126 | 800,000
Native Village of Gakona | P.O. Box 102 | Gakona | AK | 99586 | 800,000
Native Village of Koyuk | P.O. Box 30 | Koyuk | AK | 99753 | 779,733
Native Village of Mary's Igloo | P.O. Box 546 | Teller | AK | 99778 | 800,000
Native Village of Napakiak | P.O. Box 34069 | Napakiak | AK | 99634 | 800,000
Native Village of Port Graham | P.O. Box 5510 | Port Graham | AK | 99603-5532 | 800,000
Native Village of Port Heiden | P.O. Box 49007 | Port Heiden | AK | 99549 | 600,000
Native Village of Shaktoolik | P.O. Box 100 | Shaktoolik | AK | 99771 | 800,000
Native Village of Tazlina | P.O. Box 87 | Glennallen | AK | 99588 | 800,000
Native Village of Tetlin | P.O. Box 797 | Tetlin | AK | 99780 | 447,524
Newtok Village | P.O. Box 5596 | Newtok | AK | 99559 | 800,000
Nikolai Village | P.O. Box 9105 | Nikolai | AK | 99691 | 569,252
Twin Hills Village | P.O. Box 4061 | Twin Hills | AK | 99576 | 800,000
Valdez Native Tribe | P.O. Box 1108 | Valdez | AK | 99686 | 800,000
Village of Kotlik | P.O. Box 20210 | Kotlik | AK | 99620 | 793,734
Village of Venetie | P.O. Box 81119 | Venetie | AK | 99781-0119 | 600,000
Village of Wainwright | P.O. Box 143 | Wainwright | AK | 99782 | 750,000
Navajo Nation | P.O. Box 2365 | Window Rock | AZ | 86515 | 7,000,000
Tohono O'odham Ki: Ki Association | P.O. Box 790 | Sells | AZ | 85634-0790 | 4,000,000
Tonto Apache Tribe | Tonto Reservation #30 | Payson | AZ | 85541 | 800,000
White Mountain Apache Housing Authority | P.O. Box 1270 | Whiteriver | AZ | 85941 | 4,000,000
All Mission Indian Housing Authority | 27368 Via Industria | Temecula | CA | 92590 | 7,015,625
Bear River Band of Rohnerville Rancheria | 266 Kiesner | Loleta | CA | 95551-9646 | 1,084,605
Big Sandy Rancheria | P.O. Box 337 | Auberry | CA | 93602 | 1,042,480
Colusa Indian Community Council | 3730 Highway 45 | Colusa | CA | 95932 | 1,491,882
Dry Creek Rancheria Band of Pomo Indians | P.O. Box 607 | Geyserville | CA | 95441 | 1,398,784
Elk Valley Rancheria | 2332 Howland Hill | Crescant City | CA | 95531 | 1,500,000
Enterprise Rancheria Indian Housing Authority | 2133 Monte Vista | Oroville | CA | 95966 | 1,277,652
Fort Independence Indian Reservation | P.O. Box 67 | Independence | CA | 93526 | 1,500,000
Iipay Nation of Santa Ysabel | P.O. Box 130 | Santa Ysabel | CA | 92070 | 1,312,362
Karuk Tribe | 64236 Second Ave | Happy Camp | CA | 96039-1016 | 1,500,000
North Fork Rancheria | P.O. Box 929 | North Fork | CA | 93643 | 1,500,000
Northern Circle Indian Housing Authority | 694 Pinoleville Rd | Ukiah | CA | 95482-3165 | 864,000
Robinson Rancheria | P.O. Box 428 | Nice | CA | 95464-0428 | 1,500,000
Yurok Tribe | 190 Klamath Blvd | Klamath | CA | 95548 | 1,500,000
Coeur D'Alene Tribal Housing Authority | P.O. Box 267 | Plummer | ID | 83851 | 750,000
Nez Perce Housing Authority | P.O. Box 188 | Lapwai | ID | 838540 | 750,000
Mashpee Wampanoag Tribe | 483 Great Neck Rd South | Mashpee | MA | 02649 | 900,000
Aroostook Band of Micmacs | #7 Northern Road | Presque Isle | ME | 04769 | 900,000
Houlton Band of Maliseet Indians | 88 Bell Road | Houlton | ME | 04730 | 900,000
Bay Mills Indian Community | 12140 W. Lakeshore Drive | Brimley | MI | 49715 | 900,000
Hannahville Indian Community | N14911 Hannahville B1 Rd | Wilson | MI | 49896 | 900,000
Lac Vieux Desert Band of Lake Superior Chippewa | P.O. Box 249 | Watersmeet | MI | 49969 | 900,000
Fond du Lac Band of Lake Superior Chippewa | 1720 Big Lake Rd | Cloquet | MN | 55720 | 900,000
White Earth Band of Chippewa Indians | 35500 Eagle View Rd | Ogema | MN | 56569 | 900,000
Mississippi Choctaw Housing Authority | P.O. Box 6088 | Choctaw | MS | 39350 | 900,000
Chippewa Cree Tribe | 96 Clinic Road | Box Elder | MT | 59521 | 1,500,000
Fort Belknap Tribal Housing Authority | 668 Agency Main St | Harlem | MT | 59526 | 1,500,000
Fort Peck Housing Authority | P.O. Box 67 | Poplar | MT | 59255-0667 | 1,500,000
Northern Cheyenne Tribal Housing Authority | P.O. Box 327 | Lame Deer | MT | 59043-0327 | 1,500,000
Salish and Kootenai Housing Authority | P.O. Box 38 | Pablo | MT | 59855-0038 | 1,500,000
Standing Rock Sioux Tribe | Bldg 1, N Standing Rock Ave | Fort Yates | ND | 58538-8527 | 800,000
Northern Ponca Housing Authority | 1501 Michigan Ave | Norfolk | NE | 68701-5602 | 1,500,000
Ohkay Owingeh Housing Authority | P.O. Box 1059 | Ohkay Owingeh | NM | 87566 | 1,500,000
Pueblo de Cochiti Housing Authority | P.O. Box 98 | Pueblo of de Cochiti | NM | 87072 | 1,500,000
Pueblo of Acoma Housing Authority | P.O. Box 620 | Pueblo of Acoma | NM | 87034-0620 | 1,500,000
Moapa Indian Housing Authority | P.O. Box 204 | Moapa | NV | 89025-0204 | 1,500,000
Winnemucca Indian Colony | 595 Humboldt St | Reno | NV | 89509 | 1,500,000
Cherokee Nation | P.O. Box 1669, 17675 S Muskogee Ave | Tahlequah | OK | 74465-1669 | 900,000
Cheyenne-Arapaho Tribes | P.O. Box 167 | Concho | OK | 73022 | 900,000
Chickasaw Nation | P.O. Box 1548 | Ada | OK | 74821 | 900,000
Choctaw Nation | P.O. Box 1210 | Durant | OK | 74702 | 900,000
Citizen Potawatomi Nation | 1601 South Gordon Cooper Drive | Shawnee | OK | 74801 | 900,000
Comanche Nation Housing Authority | 1918 E Gore Blvd | Lawton | OK | 73501 | 900,000
Kickapoo Tribe Housing Authority of Oklahoma | P.O. Box 120 | McLoud | OK | 74851 | 900,000
Modoc Tribe | 22 N. Eight Tribes Trail | Miami | OK | 74354-6093 | 900,000
Muscogee Creek Nation | P.O. Box 580 | Okmulgee | OK | 74447 | 900,000
Otoe-Missouria Tribe | 8151 Highway 177 Red Rock, Oklahoma | Red Rock | OK | 74651-0348 | 900,000
Ottawa Tribe | P.O. Box 110 | Miami | OK | 74355 | 900,000
Pawnee Nation | P.O. Box 470 | Pawnee | OK | 74058 | 900,000
Quapaw Tribe | 5681 South 630 Road | Quapaw | OK | 74363 | 900,000
Thlopthlocco Tribal Town | P.O. Box 188 | Okemah | OK | 74859 | 900,000
Tonkawa Tribe | 1 Rush Buffalo Road | Tonkawa | OK | 74653 | 840,163
Wichita and Affiliated Tribes | P.O. Box 729 | Anadarko | OK | 73005 | 900,000
Wyandotte Nation | 64700 East Highway 60 | Wyandotte | OK | 74370 | 585,970
Confederated Tribes of Coos, Lower Umpqua, and Siuslaw Indians | 1245 Fulton Ave | Coos Bay | OR | 97420 | 450,000
Confederated Tribes of Grande Ronde | 9615 Grand Ronde Rd | Grand Ronde | OR | 97347 | 750,000
Crow Creek Housing Authority | P.O. Box 19 | Fort Thompson | SD | 57339-0019 | 1,500,000
Lower Brule Housing Authority | 100 Lakota Loop | Lower Brule | SD | 57548 | 1,500,000
Oglala Sioux Lakota Housing | 4 SuAnne Center Dr | Pine Ridge | SD | 57770-0603 | 1,500,000
Sicangu Wicoti Awayankapi Corporation | P.O. Box 69 | Rosebud | SD | 57570-0069 | 1,500,000
Paiute Indian Tribe of Utah | 440 North Paiute Drive | Cedar City | UT | 84721-0000 | 1,500,000
Upper Mattaponi Indian Tribe | P.O. Box 184 | King William | VA | 23086 | 900,000
Chehalis Tribe | P.O. Box 536 | Oakville | WA | 98568 | 750,000
Colville Indian Housing Authority | P.O. Box 528 | Nespelem | WA | 99155 | 750,000
Lummi Nation Housing Authority | 2579 Kwina Road | Bellingham | WA | 98226 | 750,000
Muckleshoot Housing Authority | 38037 158th Avenue SE | Auburn | WA | 98092 | 750,000
Skokomish Indian Tribe | 80 N Tribal Center Road | Skokomish | WA | 98584 | 466,127
Spokane Tribe | P.O. Box 100 | Wellpinit | WA | 99040 | 750,000
Lac Courte Oreilles Band of Lake Superior Chippewa | 13394 W Trepania Rd | Hayward | WI | 54843 | 900,000
Eastern Shoshone Housing Authority | P.O. Box 1250 | Fort Washakie | WY | 82514-1250 | 750,000
Northern Arapaho Housing Authority | 501 Ethete Rd | Ethete | WY | 82520-9384 | 1,000,000
Total |  |  |  |  | 119,849,893

Appendix G

FY2019 Choice Neighborhood Implementation Grants Program (FR-6400-FA-34)

Contact: Luci Blackburn, (202) 402-4190.

Lead grantee | Address | City | State | ZIP code | Amount
Fort Worth Housing Solutions | 1201 13th St | Fort Worth | TX | 76102 | $35,000,000
Housing Authority of the City of Los Angeles | 2600 Wilshire Blvd | Los Angeles | CA | 90057 | 35,000,000
Housing Authority of the City of Winston-Salem | 500 West 4th St, Suite 300 | Winston-Salem | NC | 27101 | 30,000,000
Philadelphia Housing Authority | 2013 Ridge Ave | Philadelphia | PA | 19121 | 30,000,000
Total |  |  |  |  | 130,000,000

Appendix H

FY2019/2020 Housing Counseling Training Grant Program (FR-6300-N-30)

Contact: Judith A. Ayers Britton (305) 520-5059.

Grantee name | Address | City | State | Zip | Amount
Unidos US | 1126 16th Street NW, Suite 600 | Washington | DC | 20036-4845 | $489,462.33
Rural Community Assistance Corporation | 3120 Freeboard Drive, Suite 201 | West Sacramento | CA | 95691-5039 | 413,248.23
National Community Reinvestment Coalition, INC | 740 15th St NW, Suite 400 | Washington | DC | 20005-1019 | 740,701.51
Neighborhood Reinvestment CORP. DBA Neighborworks America | 999 North Capital Street NE, Suite 900 | Washington | DC | 20002-4684 | 1,067,890.93
Neighborhood Stabilization Corporation | 225 Centre Street, Suite 100 | Boston | MA | 02119-1298 | 288,697.00
Total |  |  |  |  | 3,000,000.00

Appendix I

FY 2020 Supplemental Comprehensive Housing Counseling Grant Program (FR-6400-N-33)

Contact: Tracy Badua, 714-955-0802.

Organization name | Address | City | State | Zip | Total award
A-1 Community Housing Services | 22693 Hesperian Blvd #150 | Hayward | CA | 94541 | $41,240.00
Action for Boston Community Development, Inc | 105 Chauncy St, Room 304 | Boston | MA | 02111 | 26,313.00
Adopt A Hurricane Family, Inc. Dba Crisis Housing Solutions | 4700 SW 64th Avenue—Suite C | Davie | FL | 33314 | 12,910.00
Affordable Homeownership Foundation, Inc | 5264 Clayton Ct, Ste 1 | Fort Myers | FL | 33907 | 38,941.00
Affordable Housing Enterprises, Inc | 210 South 13th Street | Griffin | GA | 30224 | 18,439.00
Allegany County Community Opportunities and Rural Development (Accord) Corp | 84 Schuyler St | Belmont | NY | 14813 | 44,405.00
Allegany County Human Resources Development Commission, Inc | 125 Virginia Ave | Cumberland | MD | 21502 | 24,637.00
Appalachian Housing and Redevelopment Corporation | P.O. Box 1428 | Rome | GA | 30162 | 21,705.00
Area Committee to Improve Opportunities Now, Inc | 2440 West Broad Street, Suite 9 | Athens | GA | 30606 | 18,187.00
Arundel Community Development Service, Inc | 2666 Riva Road, Suite 210 | Annapolis | MD | 21401 | 33,600.00
Asian Incorporated | 1167 Mission Street, 4th Floor | San Francisco | CA | 94103 | 48,175.00
Austin Habitat for Humanity | 500 W Ben White Blvd | Austin | TX | 78704 | 25,491.00
Bay Area Housing, Inc D/B/A Community Home Solutions | 114 Washington Ave | Bay City | MI | 48708 | 30,166.00
Bennington-Rutland Opportunity Council, Inc. (Broc) | 45 Union St | Rutland | VT | 05701 | 45,997.00
Blue Valley Community Action Partnership | 620 5th St | Fairbury | NE | 68352 | 26,648.00
Bright Community Trust, INC | 2561 Nursery Rd, Ste D | Clearwater | FL | 33764 | 22,263.00
Campbellsville Housing and Redevelopment Authority | 400 Ingram Ave | Campbellsville | KY | 42718 | 21,119.00
Catholic Charities Diocese of St. Cloud | 157 Roosevelt Rd, Ste 200 | Saint Cloud | MN | 56301 | 47,632.00
Catholic Charities Usa | 2050 Ballenger Avenue, Suite 400 | Alexandria | VA | 22314 | 1,075,515.00
Catholic Social Services—Fall River | 1600 Bay St | Fall River | MA | 02724 | 37,704.00
Center For New York City Neighborhoods | 55 Broad St, 10 Floor | New York | NY | 10004 | 41,390.00
Center for Siouxland | 715 Douglas St | Sioux City | IA | 51101 | 45,569.00
Centro De Apoyo Familiar—Center for Assistance Families | 6801 Kenilworth Ave | Riverdale | MD | 20737 | 74,903.00
Charleston Trident Urban League, Inc | P.O. Box 20249 | Charleston | SC | 29413 | 27,234.00
Chatham County Housing Authority | P.O. Box 571 | Siler City | NC | 27344 | 17,601.00
Citizens' Housing and Planning Association, Inc | One Beacon Street, 5th Floor | Boston | MA | 02108 | 724,354.00
City of Albany, Georgia | 230 S Jackson St, Ste 315 | Albany | GA | 31701 | 19,360.00
City of Bloomington—Housing and Neighborhood Development (Hand) | P.O. Box 100 | Bloomington | IN | 47402 | 10,135.00
City of San Antonio/Dept of Neighborhood and Housing Services (Dnhs) | Fair Housing Division, 1400 S Flores Street | San Antonio | TX | 78204 | 29,831.00
City of Vacaville Department of Housing Services | 40 Eldridge Ave, Ste 2 | Vacaville | CA | 95688 | 22,878.00
Clinch-Powell Resource Conservation and Development Council, Inc | P.O. Box 379 | Rutledge | TN | 37861 | 27,821.00
Colorado Housing and Finance Authority | 1981 Blake St | Denver | CO | 80202 | 604,050.00
Community Action Agency | 1214 Greenwood Ave | Jackson | MI | 49203 | 30,753.00
Community Action Agency of Northwest Alabama, Inc | 745 Thompson St | Florence | AL | 35630 | 30,417.00
Community Action Agency of Oklahoma City And Oklahoma/Canadian Counties, Inc | 319 SW 25th St | Oklahoma City | OK | 73109 | 15,135.00
Community Action Partnership of North Alabama, Inc | 1909 Central Pkwy SW | Decatur | AL | 35601 | 32,176.00
Community Action Partnership, Huntsville/Madison & Limestone Counties, Inc | 3516 Stringfield Rd NW | Huntsville | AL | 35810 | 25,726.00
Community Action Services | 815 S Freedom Blvd, Suite 100 | Provo | UT | 84601 | 23,464.00
Community Connection of Northeast Oregon, Inc | 2802 Adams Ave | La Grande | OR | 97850 | 23,464.00
Community Development Support Association | 114 S Independence St | Enid | OK | 73701 | 17,015.00
Community Enterprise Investments, Incorporated | 302 North Barcelona St | Pensacola | FL | 32502 | 14,083.00
Community Housing Initiative, Inc | P.O. Box 410522 | Melbourne | FL | 32941 | 25,140.00
Community Housing Solutions | 12114 Larchmere Blvd | Cleveland | OH | 44120 | 26,648.00
Community Renewal Team, Inc | 555 Windsor St | Hartford | CT | 06120 | 21,705.00
Community Service Network, Inc | 52 Broadway | Stoneham | MA | 02180 | 29,308.00
Community Service Programs of West Alabama, Inc | 601 Black Bears Way | Tuscaloosa | AL | 35401 | 36,281.00
Community Services League | 404 N Noland Rd | Independence | MO | 64050 | 36,782.00
Comprehensive Housing Assistance, Inc | 5809 Park Heights Ave | Baltimore | MD | 21215 | 26,062.00
Comprehensive Housing Resources, Inc | 21450 Gibralter Dr | Port Charlotte | FL | 33952 | 25,140.00
Connecticut Housing Finance Authority | 999 West Street | Rocky Hill | CT | 06067 | 159,642.00
Consolidated Credit Solutions, Inc | 5701 W Sunrise Blvd | Plantation | FL | 33313 | 73,019.00
Consumer Credit and Budget Counseling, Dba National Foundation For Debt Management | 299 S Shore Rd, US Route 9 So | Marmora | NJ | 08223 | 176,330.00
Consumer Credit Counseling Service of Maryland And Delaware, Inc. (Cccsmd—Formerly Guidewell) | 6315 Hillside Ct, Suite B | Columbia | MD | 21046 | 439,626.00
Consumer Credit Counseling Services of San Francisco D/B/A Balance | 1655 Grant Street, Suite 1300 | Concord | CA | 94520 | 788,743.00
Countycorp | 130 W 2nd St, Ste 1420 | Dayton | OH | 45402 | 40,700.00
Covenant Faith Outreach Ministries—Covenant Community Development Corporation | P.O. Box 954 | Tupelo | MS | 38802 | 18,345.00
Credit Advisors Foundation | 1818 S. 72nd Street | Omaha | NE | 68124 | 143,790.00
Credit Card Mgmt Svcs, Inc Dba Reversemortgagehelper.Org And Debthelper.Com | 1325 N Congress Ave #201 | West Palm Beach | FL | 33401 | 204,833.00
Credit.Org | 1450 Iowa Ave, Ste 200 | Riverside | CA | 92507 | 347,464.00
Debt Management Credit Counseling Corp | 1100 South Powerline Road, Suite 101 | Deerfield Beach | FL | 33442 | 124,304.00
Diversified Housing Development, Inc | 8025 Liberty Rd | Windsor Mill | MD | 21244 | 28,985.00
Easter Seals of Greater Houston, Inc. | 4888 Loop Central Dr | Houston | TX | 77081 | 32,427.00
Eastern Eight Community Development Corp | 214 E Watauga Ave | Johnson City | TN | 37601 | 35,945.00
Eastern Iowa Regional Housing Authority | 7600 Commerce Park | Dubuque | IA | 52002 | 16,428.00
Eden Council for Hope and Opportunity (Echo) | 22551 2nd St, Suite 200 | Hayward | CA | 94541 | 25,775.00
Fair Housing Advocates of Northern California | 1314 Lincoln Ave, Ste A | San Rafael | CA | 94901 | 29,831.00
Fair Housing Contact Service | 441 Wolf Ledges Pkwy, Suite 200 | Akron | OH | 44311 | 33,413.00
Fair Housing Council of Riverside County, Inc | P.O. Box 1068 | Riverside | CA | 92502 | 44,070.00
Fair Housing Resource Center | 1100 Mentor Ave | Painesville | OH | 44077 | 35,359.00
Family Housing Advisory Services, Inc | 2401 Lake St | Omaha | NE | 68111 | 50,184.00
Family Management Financial Solutions, Inc | 359 Rock Island Ave | Waterloo | IA | 50701 | 34,522.00
Frederick Community Action Agency (Fcaa) | 100 S Market St | Frederick | MD | 21701 | 37,090.00
Garden State Consumer Credit Counseling, Inc. D/B/A/Navicore Solutions | 200 U.S. Highway 9 North | Manalapan | NJ | 07726 | 636,106.00
Garwyn Oaks Northwest Housing Resource Center, Inc | 2300 Garrison Blvd 140 | Baltimore | MD | 21216 | 25,802.00
Georgia Housing and Finance Authority | 60 Executive Park South, NE | Atlanta | GA | 30329 | 817,727.00
Grand Rapids Urban League | 745 Eastern Ave SE | Grand Rapids | MI | 49503 | 31,254.00
Greater Sheepshead Bay Development Corporation | 2107 E 22nd St | Brooklyn | NY | 11229 | 12,910.00
Greenpath, Inc. | 36500 Corporate Drive | Farmington Hills | MI | 48331 | 2,426,398.00
Greenville County Human Relations Commission | 301 University Rdg, Suite 1600 | Greenville | SC | 29601 | 43,045.00
Habitat for Humanity Maui, Inc | 1162 Lower Main St | Wailuku | HI | 96793 | 21,705.00
Habitat for Humanity of Jacksonville, Inc | 2404 Hubbard Street | Jacksonville | FL | 32206 | 19,026.00
Habitat for Humanity, Stanislaus County | 630 Kearney Avenue | Modesto | CA | 95350 | 25,475.00
Hagerstown Neighborhood Development Partnership, Inc.(Hndp) | 21 E Franklin St | Hagerstown | MD | 21740 | 30,166.00
Harford County Housing Agency | 15 S Main St | Bel Air | MD | 21014 | 45,642.00
High Plains Community Development Corporation | 803 E 3rd St, Ste 4 | Chadron | NE | 69337 | 48,637.00
Hispanic Association of Contractors and Enterprises | 167 W Allegheny Ave | Philadelphia | PA | 19140 | 51,743.00
Home Opportunities Made Easy, Inc (Home, Inc.) | 1618 6th Ave | Des Moines | IA | 50314 | 25,558.00
Home Partnership, Inc. (Hpi) | 626 Towne Center Dr, Suite 102 | Joppa | MD | 21085 | 33,349.00
Homefree—USA | 6200 Baltimore Avenue, 3rd Floor | Riverdale | MD | 20737 | 2,188,205.00
Hoosier Uplands Economic Development Corporation | 500 W Main St | Mitchell | IN | 47446 | 23,130.00
Horizons, A Family Service Alliance (Horizons CCCS) | P.O. Box 667 | Cedar Rapids | IA | 52406 | 21,863.00
Housing & Community Development Network of New Jersey | 145 West Hanover Street | Trenton | NJ | 08168 | 330,927.00
Housing Action Illinois | 67 E. Madison Street, Suite 1603 | Chicago | IL | 60603 | 1,384,957.00
Housing Assistance and Development Services, INC | P.O. Box 9637 | Bowling Green | KY | 42102 | 34,390.00
Housing Authority of Mingo County | 5026 Helena Avenue | Delbarton | WV | 25670 | 21,111.00
Housing Authority of The Choctaw Nation of Oklahoma | P.O. Box G | Hugo | OK | 74743 | 51,021.00
Housing Authority of The City of Ft. Myers | 4224 Renaissance Preserve Way | Fort Myers | FL | 33916 | 17,267.00
Housing Authority of The City of Greensboro D/B/A Greensboro Housing Authority | 450 N Church St | Greensboro | NC | 27401 | 32,176.00
Housing Authority of The City of High Point | 500 E Russell Ave | High Point | NC | 27260 | 19,779.00
Housing Authority of The City of Paterson | 60 Van Houten St | Paterson | NJ | 07505 | 18,187.00
Housing Authority of the City of Prichard | P.O. Box 10307 | Prichard | AL | 36610 | 23,852.00
Housing Authority of Yamhill County | 135 NE Dunn Pl | McMinnville | OR | 97128 | 26,648.00
Housing Counseling Services, Incorporated (Hsc, Inc.) | 2410 17th St NW, Ste 100 | Washington | DC | 20009 | 147,389.00
Housing Education And Economic Development, Inc | P.O. Box 11853 | Jackson | MS | 39283 | 33,404.00
Housing Foundation of AMERICA | 2400 N University Dr, Ste 200 | Pembroke Pines | FL | 33024 | 166,039.00
Housing Initiative Partnership, Inc. (Hip) | 6525 Belcrest Road, Suite 555 | Hyattsville | MD | 20782 | 76,081.00
Housing Options Provided for The Elderly(Hope) | 7300 Dartmouth Ave, Ste 100 | University City | MO | 63130 | 193,975.00
Housing Partners of Tulsa, Incorporated | 415 E. Independence Street | Tulsa | OK | 74106 | 33,935.00
Housing Services Mid Michigan (Formerly Housing Services For Eaton County) | 319 S Cochran Ave | Charlotte | MI | 48813 | 34,522.00
Hudson County Housing Resource Center, INC | 830 Bergen Aveue, Suite 5A | Jersey City | NJ | 07306 | 14,826.00
Idaho Housing and Finance Association | P.O. Box 7899 | Boise | ID | 83702 | 298,109.00
Indiana Housing and Community Development Authority | 30 South Meridian Street, Ste 900 | Indianapolis | IN | 46204 | 129,160.00
Intercommunity Action, Inc. D/B/A Interact, Journey'S Way | 403 Rector St | Philadelphia | PA | 19128 | 19,026.00
Jacksonville Area Legal Aid, Inc | 126 W Adams St | Jacksonville | FL | 32202 | 25,894.00
Kceoc Community Action Partnership, Inc | P.O. Box 49O | Barbourville | KY | 40906 | 20,533.00
Kentucky Housing Corporation | 1231 Louisville Rd. | Frankfort | KY | 40601 | 235,744.00
Lee County Housing Development Corporation | P.O. Box 2854 | Fort Myers | FL | 33902 | 24,303.00
Legal Aid Society of Hawaii | 924 Bethel Street | Honolulu | HI | 96813 | 25,040.00
Lincoln Hills Development Corporation | P.O. Box 336 | Tell City | IN | 47586 | 21,705.00
Live the Dream Development, Inc | 247 Double Springs Rd | Bowling Green | KY | 42101 | 15,135.00
Louisiana Housing Corporation | 2415 Quail Drive | Baton Rouge | LA | 70808 | 665,117.00
Macoupin County Housing Authority | P.O. Box 226 | Carlinville | IL | 62626 | 22,292.00
Maine State Housing Authority | 26 Edison Dr | Augusta | ME | 04330 | 32,843.00
Marshall Heights Community Development Organization | 3939 Benning Road, NE | Washington | DC | 20019 | 28,407.00
Michigan State Housing Development Authority | 735 E. Michigan Avenue P.O. Box 30044 | Lansing | MI | 48912 | 745,073.00
Mid-Florida Housing Partnership, Inc | 1834 Mason Ave | Daytona Beach | FL | 32117 | 35,686.00
Minnesota Homeownership Center | 1000 Payne Avenue, Suite 200 | Saint Paul | MN | 55130 | 687,791.00
Mississippi County, Arkansas Economic Opportunity Commission, INC | 1400 N Division St | Blyheville | AR | 72315 | 13,655.00
Mississippi Home Corporation | 735 Riverside Drive | Jackson | MS | 39202 | 330,340.00
Mississippi Homebuyer Education Center- Initiative | 350 West Woodrow Wilson Ave, Suite 3480 | Jackson | MS | 39213 | 342,016.00
Mon Valley Initiative | 303-305 E. 8th Avenue | Homestead | PA | 15120 | 693,126.00
Money Management International Inc | 14141 Southwest Fwy | Sugar Land | TX | 77478 | 1,288,028.00
Montana Homeownership Network Dba Neighborworks Montana | 509 1st Ave S | Great Falls | MT | 59401 | 507,837.00
Movin' Out, Inc | 902 Royster Oaks Drive, Ste 105 | Madison | WI | 53714 | 36,867.00
Muscatine Municipal Housing Agency | 215 Sycamore St | Muscatine | IA | 52761 | 18,942.00
National Association of Real Estate Brokers-Investment Division, Inc | 7677 OakPort Street, Suite 1030, 10th Fl | Oakland | CA | 94621 | 1,263,585.00
National Capacd | 1628 16th Street NW, 4th Floor | Washington DC | DC | 20009 | 485,874.00
National Community Reinvestment Coalition, Inc | 740 15th St NW, Suite 400 | Washington | DC | 20005 | 1,134,280.00
National Foundation for Credit Counseling, Inc | 2000 M St. NW, Suite 505 | Washington | DC | 20036 | 994,585.00
National Urban League | 80 Pine St, 9th Floor | New York | NY | 10005 | 1,008,602.00
Neighborhood Housing Services of Kansas City, Inc | 616 E 63rd Street, Suite 200 | Kansas City | MO | 64110 | 17,015.00
Neighborhood Reinvestment Corp. Dba Neighborworks America | 999 North Capital Street NE, Suite 900 | Washington | DC | 20002 | 3,000,000.00
Neighborhood Stabilization Corporation (Naca Counseling Subsidiary) | 225 Centre Street, Suite 100 | Boston | MA | 02119 | 3,000,000.00
Nevada Partners, INC | 690 W Lake Mead Blvd | North Las Vegas | NV | 89030 | 36,165.00
New Hampshire Housing Finance Authority | 32 Constitution Dr | Bedford | NH | 03110 | 203,564.00
New Jersey Housing and Mortgage Finance Agency | P.O. Box 18550 | Trenton | NJ | 08650 | 284,160.00
New York Mortgage Coalition | 85 Broad Street, 17th Floor | New York | NY | 10004 | 426,968.00
New York State Housing Finance Agency | 38-40 State Street, 4th Floor | Albany | NY | 12207 | 1,092,658.00
Newton Community Development Corporation | 511 W University Dr, Ste 4 | Tempe | AZ | 85281 | 25,789.00
NHS of Rochester, INC. DBA Neighborworks Community Partners Rochester | 47916th Street | Niagara Falls | NY | 14303 | 25,968.00
Niagara Falls Neighborhood Housing Services | 479 16th St | Niagara Falls | NY | 14303 | 19,946.00
North & East Lubbock Community Development Corporation | P.O. Box 3893 | Lubbock | TX | 79452 | 12,050.00
North Carolina Housing Coalition | 104 City Hall Plaza, #201 | Durham | NC | 27701 | 873,301.00
North Dakota Housing Finance Agency | P.O. Box 1535 | Bismarck | ND | 58502 | 69,472.00
North Hudson Community Action Corporation | 800 31st St | Union City | NJ | 07087 | 18,187.00
Northeast Iowa Community Action Corporation | P.O. Box 487 | Decorah | IA | 52101 | 15,585.00
Northwest Michigan Community Action Agency, Inc | 3963 3 Mile Rd N | Traverse City | MI | 49686 | 38,291.00
Northwest Regional Housing Authority | P.O. Box 2568 | Harrison | AR | 72602 | 18,187.00
Nueva Esperanza, Inc | 4261 N 5th St | Philadelphia | PA | 19140 | 725,484.00
Oakland County Housing Counseling | 250 Elizabeth Lake Rd, Ste 1900 | Pontiac | MI | 48341 | 46,041.00
Oakland Livingston Human Service Agency | 196 Cesar E Chavez Ave | Pontiac | MI | 48342 | 24,637.00
Ocala Housing Authority | P.O. Box 4268 | Ocala | FL | 34478 | 51,352.00
Ocean, INC. (Ocean Community Economic Action Now, INC.) | 40 Washington Street | Toms River | NJ | 08754 | 13,654.00
Opa-Locka Community Development Corporation | 490 Opa Locka Blvd | Opa Locka | FL | 33054 | 32,762.00
Open Door Counseling Center | 34420 SW Tualatin Valley Hwy | Hillsboro | OR | 97123 | 45,382.00
Operation Hope, Inc | 191 Peachtree St NE, Suite 3840 | Atlanta | GA | 30303 | 473,905.00
Orange County Fair Housing Council, INC | 2021 E 4th St, Suite 122 | Santa Ana | CA | 92705 | 26,170.00
Pathstone Corporation | 400 East Avenue | Rochester | NY | 14607 | 302,840.00
Pennsylvania Community Real Estate Corp. D/B/A Tenant Union Representative Network (T.U.R.N.) | 100 S Broad St Ste 800 | Philadelphia | PA | 19110 | 38,274.00
Pennsylvania Housing Finance Agency | 211 North Front Street | Harrisburg | PA | 17101 | 1,867,130.00
Pro-Home, Inc. | 40 Summer St | Taunton | MA | 02780 | 23,130.00
Project Sentinel | 554 Valley Way | Milpitas | CA | 95035 | 72,905.00
Providence Housing Authority | 100 Broad St | Providence | RI | 02903 | 20,533.00
Quickcert, Inc. | 7122 S Sheridan Rd, Ste 2-533 | Tulsa | OK | 74133 | 137,975.00
Refugee Family Assistance Program | 5405 Memorial Drive, Suite 101 | Stone Mountain | GA | 30083 | 27,804.00
Rockaway Development and Revitalization Corporation | 1920 Mott Ave | Far Rockaway | NY | 11691 | 17,015.00
Rural Community Assistance Corporation | 3120 Freeboard Drive, Suite 201 | WEST Sacramento | CA | 95691 | 812,507.00
San Francisco Housing Development Corporation | 4439 3rd St | San Francisco | CA | 94124 | 47,002.00
Sandhills Community Action Program, INC | 340 Commerce Ave Ste 20 | Southern Pines | NC | 28387 | 24,030.00
Senior Citizens United Community Services of Camden County, Inc | 537 W Nicholson Rd | Audubon | NJ | 08106 | 36,009.00
Shore Up!, Inc | 520 Snow Hill Rd | Salisbury | MD | 21804 | 17,015.00
Smart Money Housing Aka Smart Women Smart Money | 3510 W Franklin Blvd | Chicago | IL | 60624 | 47,341.00
Solita'S House Inc | 3101 E 7th Ave | Tampa | FL | 33605 | 40,050.00
South Dakota Housing Development Authority | P.O. Box 1237 | Pierre | SD | 57501 | 245,439.00
Southeastern Housing & Community Development Fka Southeastern Housing Foundation | 986 Doyle Street | Orangeburg | SC | 29115 | 34,522.00
Southern Appalachian Labor School Foundatin, INC | P.O. Box 127 | Kincaid | WV | 25119 | 22,858.00
Southern Bancorp Community Partners | 8924 Kanis Rd | Little Rock | AR | 72205 | 31,003.00
Southern Maryland Tri-County Community Action | P.O. Box 280 | Hughesville | MD | 20637 | 31,909.00
Southern Minnesota Regional Legal Services, Inc | 55 5th St E, Ste 400 | Saint Paul | MN | 55101 | 41,725.00
Springfield Housing Authority | 200 N 11th St | Springfield | IL | 62703 | 17,015.00
Springfield Partners for Community Action | 721 State Street, 2nd Floor | Springfield | MA | 01109 | 18,774.00
St. Johns County Board of County Commissioners | 200 San Sebastian Vw, Ste 2300 | St Augustine | FL | 32084 | 28,155.00
Statesville Housing Authority | 110 W Allison St | Statesville | NC | 28677 | 28,135.00
Step Up Suncoast, Inc. F/K/A Manatee Community Action Agency, Inc | 6428 Parkland Dr | Sarasota | FL | 34243 | 18,187.00
Strycker'S Bay Neighborhood Council, Inc | 105 West 86th Street, Unit 323 | New York | NY | 10024 | 13,497.00
Summech Community Development Corporation, Inc | 633 Pryor Street | Atlanta | GA | 30312 | 20,198.00
Tallahassee Urban League, Inc | 923 Old Bainbridge Rd | Tallahassee | FL | 32303 | 20,785.00
Tampa Bay Community Development Corporation | 2139 NE Coachman Rd | Clearwater | FL | 33765 | 44,405.00
Telamon Corporation | 5560 Munford Road, Suite 201 | Raleigh | NC | 27612 | 453,100.00
Tennessee Housing Development Agency | 502 Deaderick Street, Third Floor | Nashville | TN | 37243 | 211,306.00
The Agriculture and Labor Program, Inc | P.O. Box 3126 | Winter Haven | FL | 33885 | 15,256.00
The Housing Partnership Network | 1 Washington Mall, 12th Fl | Boston | MA | 02108 | 686,710.00
Twin Rivers Opportunities, Inc | P.O. Box 1482 | New Bern | NC | 28563 | 27,821.00
Unidos Us | 1126 16th Street NW, Suite 600, Raul Yzaguirre Building | Washington | DC | 20036 | 2,232,486.00
United Communities Against Poverty | 1400 Doewood Lane | Capitol Heights | MD | 20743 | 22,858.00
United Community Center | 1028 S 9th Street | Milwaukee | WI | 53204 | 27,548.00
United Way of Central Alabama, Inc. | P.O. Box 320189 | Birmingham | AL | 35232 | 509,032.00
Universal Housing Development Corporation | 301 E 3rd St | Russellville | AR | 72801 | 28,993.00
Utah State University—Family Life Center—Hfc | 6435 Old Main Hill | Logan | UT | 84322 | 46,136.00
Virgin Islands Housing Finance Authority | 3202 Demarara Plaza, Suite 200 | St. Thomas | VI | 00802 | 56,399.00
Virginia Housing Development Authority (Virginia Housing) | 601 S. Belvidere Street | Richmond | VA | 23220 | 1,345,355.00
Waco Community Development Corporation | 1624 Colcord Ave | Waco | TX | 76707 | 26,648.00
Washington County Community Action Council (Wccac) | 117 Summit Ave | Hagerstown | MD | 21740 | 35,590.00
Washington State Housing Finance Commission | 1000 2nd Avenue, Suite 2700 | Seattle | WA | 98104 | 426,202.00
West Ohio Community Action Partnership | 540 S Central Ave | Lima | OH | 45804 | 24,303.00
West Palm Beach Housing Authority | 3700 Georgia Ave | West Palm Beach | FL | 33405 | 23,096.00
West Tennessee Legal Services, Incorporated | P.O. Box 2066 | Jackson | TN | 38302 | 917,938.00
Western Piedmont Council of Governments | P.O. Box 9026 | Hickory | NC | 28603 | 45,306.00
Westmoreland Community Action | 226 S Maple Ave | Greensburg | PA | 15601 | 23,122.00
Will County Center for Community Concerns | 2455 Glenwood Ave | Joliet | IL | 60435 | 37,438.00
Working in Neighborhoods | 1814 Dreman Ave | Cincinnati | OH | 45223 | 27,234.00
Wsos Community Action Commission, Inc | 127 S Front St, P.O. Box 590 | Fremont | OH | 43420 | 15,842.00
Youngstown Neighborhood Development Corp | 820 Canfield Road | Youngstown | OH | 44511 | 28,407.00
Youth Education and Health in Soulard | 1924 S 12th St | Saint Louis | MO | 63104 | 27,297.00
Total |  |  |  |  | 49,090,442.00

Appendix J

FY2020 Lead Hazard Reduction Grant Program (FR-6400-N-13)

Contact: Yolanda A. Brown (202) 402-7596.

Organization name | Address | City | State/province | Zip/postal code | Award amount
City of New Bedford | 133 William Street | New Bedford | MA | 02740 | $2,400,000.00
City of Lawrence | 200 Common St | Lawrence | MA | 01840 | 5,004,920.00
Westmoreland County | 40 North Pennsylvania Avenue | Greensburg | PA | 15601-2341 | 3,400,000.00
County of Sullivan | 14 Main St | Newport | NH | 3773 | 1,703,524.00
City of Nashua | 229 Main Street | Nashua | NH | 03061 | 5,700,000.00
City of Allentown | 435 Hamilton Street | Allentown | PA | 18101 | 5,700,000.00
County of Hamilton | 250 William Howard Taft | Cincinnati | OH | 45219 | 2,000,000.00
Kansas City Missouri | 2400 Troost Avenue, Suite 4000 | Kansas City | MO | 64108 | 4,003,778.00
City of Fort Worth | 1000 Throckmorton | Fort Worth | TX | 76102 | 4,700,000.00
City of Clinton | 611 South 3rd Street | Clinton | IA | 52733-2958 | 2,800,700.00
Kenosha County | 8600 Sheridan Road, Suite 600 | Kenosha | WI | 53143-6615 | 4,400,000.00
City of Minneapolis | 250 S 4th St, Room 414 | Minneapolis | MN | 55417 | 5,700,000.00
Redevelopment Authority of the City of Erie (PA) | 626 State Street | Erie | PA | 16501 | 3,011,446.00
City of Portland (OR) | 1221 SW 5th Avenue | Portland | OR | 97204 | 3,600,000.00
City of Roanoke | 215 Church Ave, Room 208 North | Roanoke | VA | 24011 | 3,718,733.00
City of Lansing | 124 W Michigan Ave | Lansing | MI | 48933 | 4,589,940.00
City of Brockton | 50 School Street | Brockton | MA | 02301 | 4,700,000.00
City of Burlington | 149 Church Street | Burlington | VT | 05401 | 3,623,992.44
City of Lincoln | 555 South 10th Street | Lincoln | NE | 68508 | 3,400,000.00
Shelby County | 1075 Mullins Station Road | Memphis | TN | 38134 | 4,143,959.00
City of Waterloo | 620 Mulberry Street | Waterloo | IA | 50703 | 3,384,678.00
City of Albany | Albany Community Development Agency, 200 Henry Johnson Blvd | Albany | NY | 12210 | 3,500,000.00
City of St. Louis | 1520 Market Street | St. Louis | MO | 63101 | 2,520,000.00
City of Waterbury | One Jefferson Square | Waterbury | CT | 06706-1102 | 5,700,000.00
City of Cincinnati | 801 Plum Street | Cincinnati | OH | 45202-0000 | 3,500,000.00
Baltimore County | 105 W. Chesapeake Avenue | Towson | MD | 21204 | 2,000,000.00
City of Bloomington | 109 E. Olive St. | Bloomington | IL | 61701 | 2,342,691.00
Chautauqua County | 3 N Erie St | Mayville | NY | 14757 | 3,000,000.00
State of Connecticut | 25 Sigourney Street | Hartford | CT | 06106-5041 | 5,037,437.00
Allegheny County | Chatham One | Pittsburgh | PA | 15219 | 5,600,000.00
City of Baton Rouge | 222 St. Louis Street | Baton Rouge | LA | 70802 | 3,400,000.00
City of Toledo | One Government Center | Toledo | OH | 43604-2275 | 5,700,000.00
City of New York | 100 Gold St | New York | NY | 10038 | 3,500,000.00
City of Alexandria | 625 Murray Street, Suite 7 | Alexandria | LA | 71301 | 2,694,573.00
City of Providence | 444 Westminster Street | Providence | RI | 02903-3206 | 5,700,000.00
City of Battle Creek | 10 N Division Street | Battle Creek | MI | 49014 | 3,400,000.00
City of Paterson | 155 Market Street | Paterson | NJ | 7505 | 3,400,000.00
City of Buffalo | City Hall, 65 Niagara Square, Room 920 | Buffalo | NY | 14202 | 2,023,602.00
New Hampshire Housing Finance Authority | 32 Constitution Drive | Bedford | NH | 03110 | 4,983,542.00
Wisconsin Department of Health Services | 1 W. Wilson Street, Room 150 | Madison | WI | 53701 | 3,400,000.00
City of Bridgeport | 999 Broad Street | Bridgeport | CT | 06604-4060 | 3,562,689.00
City of Schenectady | 105 Jay St | Schenectady | NY | 12305 | 3,406,500.46
City of Lancaster | 105 E. Main Street | Lancaster | OH | 43130 | 1,400,000.00
City of Greensboro | 300 Washington Street, Room 315 | Greensboro | NC | 27402 | 2,698,441.00
Total |  |  |  |  | 164,155,145.90

Appendix K

FY2020 Healthy Homes Technical Studies Grant (FR-6400-N-15)

Contact: Dr. Peter J. Ashley (202) 402-7595.

Organization name | Address | City | State | Zip | Award
The Ohio State University | 1960 Kenny Road | Columbus | OH | 43210 | $999,884
Silent Spring Institute, Inc | 320 Nevada Street, Suite 302 | Newton | MA | 02460 | 927,069
Johns Hopkins University | 733 North Broadway, Suite 117 | Baltimore | MD | 21205 | 999,871
Rutgers, The State University of New Jersey | 33 Knightsbridge Road, 2nd Floor, East Wing | Piscataway | NJ | 08854 | 641,756
The Administrators of the Tulane Educational Fund | 1430 Tulane Avenue, MB Code 8915 | New Orleans | LA | 70112 | 999,019
Sonora Environmental Research Institute, Inc | 3202 E. Grant Road | Tucson | AZ | 85716 | 624,250
University of Kentucky Research Foundation | 500 South Limestone | Lexington | KY | 40506 | 400,000
Total |  |  |  |  | 5,591,849

Appendix L

FY2020 Lead Technical Studies Grant (FR-6400-N-15)

Contact: Dr. Peter J. Ashley (202) 402-7595.

Organization name | Address | City | State | Zip | Award
Franklin & Marshall College | 415 Harrisburg Ave., P.O. Box 3003 | Lancaster | PA | 17604 | 699,139
Board of Regents, NSHE, obo University of Nevada, Las Vegas | 4505 S. Maryland Parkway | Las Vegas | NV | 89154 | 530,891
Trustees of Indiana University | 509 E 3rd St | Bloomington | IN | 47401 | 449,995
University of Notre Dame | 940 Grace Hall | Notre Dame | IN | 46556 | 700,000
Wayne State University | 5057 Woodward, 13th Floor, STE 13001 | Detroit | MI | 48202 | 700,000
Curators, University of MO on behalf of UMKC | 5100 Rockhill Road | Kansas City | MO | 64110 | 699,997
Total |  |  |  |  | 3,780,022

Appendix M

FY2020 Healthy Homes Production Grant Program for Tribal Housing (FR-6400-N-44)

Contact: Al Salkoski (202) 402-4424.

Organization name | Organization address | City | State | Zip | HHP amount (tribal)
Native Village of Ruby | P.O. Box 68210 | Ruby | AK | 99768 | $537,946.00
Taġiuġmiullu Nunamiullu Housing Authority | 1634 Okpik Street/P.O. Box 409 | Utqiagvik (Barrow) | AK | 99723 | 999,942.00
Native Village of Unalakleet | P.O. Box 270 | Unalakleet | AK | 99684 | 845,006.00
Native Village of Gakona | P.O. Box 102 | Gakona | AK | 99586 | 638,682.00
Koyukuk Village | P.O. Box 109 | Koyukuk | AK | 99754 | 789,274.00
Dry Creek Rancheria Band of Pomo Indians | P.O. Box 607 | Geyserville | CA | 95441 | 1,000,000.00
Shoshone-Bannock Tribes | P.O. Box 306 | Fort Hall | ID | 83203 | 719,544.70
White Earth Reservation Housing Authority | 3303 US Hwy 59 | Waubun | MN | 56589 | 750,000.00
Santo Domingo Tribal Housing Authority | P.O. Box 10 | Santo Domingo Pueblo | NM | 87052 | 999,947.41
Kaw Nation | P.O. Box 50 | Kaw City | OK | 74641 | 700,000.00
Sauk-Suaittle Indian Tribe | 5318 Chief Brown Lane | Darrington | WA | 98241 | 1,000,000.00
Sokaogon Chippewa Community | 3051 Sand Lake Road | Crandon | WI | 54520 | 959,656.00
Total |  |  |  |  | 9,939,998.11

Appendix N

FY2019 and FY2020 Cooperative Research in Housing Technologies (FR-6400-FA-56)

Contact: Carol Gilliam (202) 402-4354.

State | Recipient | Address | City | Zip code | Amount
CA | The Regents of California—University of California | 1608 Fourth Street, Suite 220 | Berkeley | 94710-1749 | $400,000.00
TX | Texas A&M Engineering Experiment Station | 400 Harvey Mitchell Parkway, Suite 500 | College Station | 77845 | 357,118.00
NY | System Building Research Alliance | 1776 Broadway, Suite 1250 | New York | 10019-2002 | 399,996.00
MD | Home Innovation Research Labs, Inc | 400 Prince George's Blvd | Upper Marlboro | 20774-8731 | 399,913.00
LA | Louisiana State University | 202 Himes Hall | Baton Rouge | 70803-0001 | 353,542.00
OK | Oklahoma State University | 203 Whitehurst Hall | Stillwater | 74078-6007 | 89,431.00
Total |  |  |  |  | 2,000,000.00

Appendix O

FY2019 and FY2020 Examining Long-Term Outcomes Following Exit From HUD Assisted Housing (FR-6400-FA-58)

Contact: Carol Gilliam (202) 402-4354.

State | Recipient | Address | City | Zip code | Amount
WA | Seattle-King County Department of Public Health | 401 5th Avenue, Suite 1300 | Seattle | 98104-1823 | $195,305.00
CA | The Regents of the University of California | 1608 Fourth St, Suite 220 | Berkeley | 94710-1749 | 123,108.00
Total |  |  |  |  | 318,413.00

Appendix P

FY2019 and FY2020 Estimating the Prevalence and Probability of Homeless Youth (FR-6400-FA-59)

Contact: Carol Gilliam (202) 402-4354.

State | Recipient | Address | City | Zip code | Amount
IL | Chapin Hall Center for Children | 1313 East 60th Street | Chicago | 60637 | $680,677.00
CO | Center for Policy Research | 1570 Emerson Street | Denver | 80218 | 680,677.00
OH | Case Western Reserve University | 10900 Euclid Avenue | Cleveland | 44106 | 638,646.00
Total |  |  |  |  | 2,000,000.00

Appendix Q

FY2019 and FY2020 Impact of Rental Assistance Demonstration (RAD) on Children in HUD Assisted Households (FR-6400-FA-66)

Contact: Carol Gilliam (202) 402-4354.

State | Recipient | Address | City | Zip code | Amount
NC | University of North Carolina at Chapel Hill | 104 Airport Drive, Ste. 2200 CB#1350 | Chapel Hill | 27599-1350 | $390,000
NY | New York University Furman Center | 665 Broadway, Suite 801 | New York | 10012-0000 | 360,000
Total |  |  |  |  | 750,000

[FR Doc. 2021-06459 Filed 3-29-21; 8:45 am]

BILLING CODE P